ENVIRONMENTAL PROTECTION AGENCY

40 CFR Parts 141 and 142

[EPA-HQ-OW-2022-0260; FRL 8464-01-OW]

RIN 2040-AG14

National Primary Drinking Water Regulations: Consumer Confidence Reports

AGENCY: Environmental Protection Agency (EPA).

ACTION: Final rule.

SUMMARY: The U.S. Environmental Protection Agency (EPA) is revising the Consumer Confidence Report (CCR) Rule in accordance with America's Water Infrastructure Act (AWIA) of 2018 (United States, 2018) and is requiring States, territories, and Tribes with primary enforcement responsibility to report compliance monitoring data (CMD) to the EPA. The revisions will improve the readability, clarity, and understandability of CCRs as well as the accuracy of the information presented, improve risk communication in CCRs, incorporate electronic delivery options, provide supplemental information regarding lead levels and control efforts, and require systems who serve 10,000 or more persons to provide CCRs to customers biannually (twice per year). The final rule requirements for States to submit to the EPA CMD for all National Primary Drinking Water Regulations (NPDWRs) will improve the EPA's ability to fulfill oversight responsibilities under the Safe Drinking Water Act (SDWA).

DATES: This final rule is effective on June 24, 2024. The compliance date for the revisions to 40 CFR part 141, subpart O is set forth in § 141.152. The compliance date for States (as defined in § 142.2) to report CMD is set forth in § 142.15(b)(3).

ADDRESSES: The EPA has established a docket for this action under Docket ID No. EPA-HQ-OW-2022-0260. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available electronically through http://www.regulations.gov.

FOR FURTHER INFORMATION CONTACT:

For technical information contact: Sarah Bradbury, Drinking Water Capacity and Compliance Division, Office of Ground Water and Drinking Water, Environmental Protection Agency, 1200 Pennsylvania Ave. NW, Washington, DC 20460-0001; telephone number (202) 564-3116; email address: bradbury.sarah@epa.gov.

For general information contact: The EPA at OGWDWCCRrevisions@epa.gov or visit the agency's website at: https://www.epa.gov/ccr/consumer-confidence-report-rule-revisions, for general information about the Consumer Confidence Report Rule Revisions.

SUPPLEMENTARY INFORMATION: Preamble acronyms and abbreviations. Throughout this document the use of “we,” “us,” or “our” is intended to refer to the EPA. We use acronyms in this preamble. For reference purposes, the EPA defines the following acronyms here:

ALE Action Level Exceedance

AWIA America's Water Infrastructure Act

CCR Consumer Confidence Report

CCT Corrosion Control Treatment

CFR Code of Federal Regulations

CMD Compliance Monitoring Data

CWS Community Water System

DW-SFTIES Drinking Water State-Federal-Tribal Information Exchange System

EJ Environmental Justice

EPA Environmental Protection Agency

GAO Government Accountability Office

ICR Information Collection Request

LCRR Lead and Copper Rule Revisions

LEP Limited English Proficiency

LSL Lead Service Line

MCL Maximum Contaminant Level

MCLG Maximum Contaminant Level Goal

MRDL Maximum Residual Disinfectant Levels

NDWAC National Drinking Water Advisory Council

NPDWR National Primary Drinking Water Regulations

OMB Office of Management and Budget

OCCT Optimal Corrosion Control Treatment

PFAS Per- and Polyfluoroalkyl Substances

PN Public Notification

ppb Parts per billion

ppm Parts per million

ppt Parts per trillion

PWS Public Water System

PWSS Public Water System Supervision

QR Quick Response

RFA Regulatory Flexibility Act

SDWA Safe Drinking Water Act

SDWIS Safe Drinking Water Information System

TT Treatment Technique

UCMR Unregulated Contaminant Monitoring Rule

UMRA Unfunded Mandates Reform Act

Table of Contents

I. General Information

A. What are the EPA's final revisions?

B. Does this action apply to me?

C. What is the Agency's authority for taking this action?

D. What action is the Agency taking?

E. Why is the Agency taking this action?

II. Background

A. Overview of Consumer Confidence Report Rule

B. Overview of Compliance Monitoring Data Requirements

C. Applicability

D. Consultations

III. Content of Consumer Confidence Reports

A. Report Summaries

B. Contaminant Data Section

C. False and Misleading Statements

D. Risk Communication

E. Corrosion Control Efforts, Action Level Exceedances Information in CCRs, and Other Lead Related Provisions

IV. Translation Assistance

A. Translation Support Requirements for CWSs and States

B. Recipient and Subrecipient Meaningful Access

C. Language Access Plans

V. Consumer Confidence Report Delivery

A. Biannual Delivery

B. Electronic Delivery

C. Posting Online

D. Delivery Certification

E. Good Faith Delivery

VI. Compliance Monitoring Data

A. CMD Reporting Requirement

B. Scope and Administrative Burden of CMD Reporting

VII. Other Revisions

A. Housekeeping

VIII. Rule Implementation and Enforcement

A. Compliance Date

B. Special Primacy

IX. Economic Analysis

A. Estimates of the Total Annualized Cost of the Final Rule Revisions

B. Program and Administrative Costs for CCR and CMD

C. Revisions to Consumer Confidence Report Requirements Costs

D. Compliance Monitoring Data (CMD) Requirement Costs

E. Qualitative Benefits

X. Statutory and Executive Order Reviews

A. Executive Order 12866: Regulatory Planning and Review and Executive Order 14094: Modernizing Regulatory Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution or Use

I. National Technology Transfer and Advancement Act

J. Executive Order 12898: Federal Actions To Address Environmental Justice in Minority Populations and Low-Income Populations and Executive Order 14096: Revitalizing Our Nation's Commitment to Environmental Justice for All

K. Congressional Review Act

XI. Severability

XII. References

I. General Information

A. What are the EPA's final revisions?

The EPA is promulgating revisions to the Consumer Confidence Report Rule (CCR) that strengthen public health protection by improving access to and clarity of drinking water data so that customers of community water systems (CWS) can have a more complete picture of water quality and water system compliance. The EPA is requiring primacy agencies to report compliance monitoring data (CMD) to the EPA to support the agency's oversight responsibilities by providing the EPA a more complete and accurate understanding of water system compliance with National Primary Drinking Water Regulations (NPDWRs) under the Safe Drinking Water Act (SDWA).

B. Does this action apply to me?

Entities that could potentially be affected include the following:

Category | Example of potentially affected entities
CWSs | CWSs (a public water system [PWS] that (A) serves at least 15 service connections used by year-round residents of the area served by the system; or (B) regularly serves at least 25 year-round residents) (§ 141.2).
State, territory, and Tribal agencies | Primacy agencies responsible for drinking water regulatory development and enforcement. (§ 142.2)

This table is not intended to be exhaustive, but rather provides a guide for readers regarding entities likely to be regulated by this action. This table lists the types of entities that the EPA is now aware could potentially be regulated by this action. Other types of entities not listed in this table could also be regulated. To determine whether your facility is regulated by this action, you should carefully examine the applicability criteria in § 141.151 of the rule. For questions regarding the applicability of this action to a particular entity, consult the technical information contact listed under FOR FURTHER INFORMATION CONTACT.

C. What is the Agency's authority for taking this action?

The statutory authority for this rule is the SDWA, including sections 1413, 1414, 1445, and 1450. The EPA first promulgated regulations in 1998 to require CCRs after the 1996 SDWA amendments added requirements for water systems to provide annual reports to each customer of a water system on the level of contaminants in the drinking water and related information (63 FR 44512 (August 19, 1998). These annual reports were part of the “Right to Know” provisions added to the statute in 1996 and designed to increase the amount of information made available by a CWS to their consumers. On October 23, 2018, (Pub. L. 115-270, 2018) AWIA was enacted to improve drinking water and water quality, deepen infrastructure investments, enhance public health and quality of life, increase jobs, and bolster the economy.

Section 2008 of AWIA amended SDWA section 1414(c)(4) on Consumer Confidence Reports by adding a new paragraph 1414(c)(4)(F). This new paragraph requires the EPA to revise the 1998 CCR regulations to increase the readability, clarity, and understandability of the information presented in the CCRs; increase the accuracy of information presented and risk communication in the CCRs; mandate report delivery at least biannually by systems serving 10,000 or more; and allow electronic delivery consistent with methods described in the memorandum Safe Drinking Water Act-Consumer Confidence Report Rule Delivery Options (USEPA, 2013) issued by the EPA on January 3, 2013. The AWIA amendments also require CCRs to include information on corrosion control efforts and when corrective action to reduce lead levels throughout the system is required following a lead action level exceedance (ALE). As with the original CCR Rule, the AWIA amendments direct that the revised regulations must be developed in consultation with PWSs, environmental groups, public interest groups, risk communication experts, the States, and other interested parties. Section 1414(c)(4)(F), as amended, also established a deadline of October 23, 2020, for the EPA to revise the CCR Rule. In response to a complaint filed by the Natural Resources Defense Council on January 19, 2021, (NRDC v. EPA-SDWA CCR No 21-cv-461. 2021.) and after public notice (USEPA, 2021d) and the opportunity to comment, the EPA entered a consent decree that includes a deadline for the agency to sign for publication in the Federal Register revisions to the CCR regulations no later than May 14, 2024 (modified from March 15, 2024), to comply with AWIA amendments to SDWA section 1414(c)(4). Natural Resources Defense Council v. Michael S. Regan, Administrator of the U.S. EPA, Case No. 21 Civ. 461 (VEC) (S.D.N.Y.). See also Docket no. EPA-HQ-OGC-2021-0753. This action fulfills the rulemaking requirements of SDWA section 1414(c)(4)(F).

In addition, in recent years, the EPA evaluated ways to improve the accuracy and availability of compliance monitoring data by practicable, cost-effective methods and means. AWIA, section 2011 amended SDWA section 1414 to add a new section, 1414(j)—Improved Accuracy and Availability of Compliance Monitoring Data. SDWA Section 1414(j) required the EPA to provide Congress a strategic plan for improving the accuracy and availability of monitoring data collected to demonstrate compliance with National Primary Drinking Water Regulations (NPDWRs) and submitted by public water systems to States or by States to the Administrator. Congress mandated the EPA to, among other things, evaluate challenges with ensuring the accuracy and integrity of submitted data, and provide findings and recommendations on practicable, cost-effective methods and means that can be employed to improve the accuracy and availability of submitted data. To inform its efforts to meet these statutory requirements, the EPA consulted States, PWSs, and other interested stakeholders, which consisted of discussions with staff from State drinking water programs, PWSs, and State laboratories, as well as staff from the EPA regions. The EPA's Drinking Water Compliance Monitoring Data (CMD) Strategic Plan identified a need for the EPA to obtain and evaluate monitoring data regularly collected by States as required under the NPDWRs (USEPA, 2022a). The EPA has considered the accuracy and completeness of compliance information available to the agency and determined that annual reporting of CMD will provide the agency a more complete and accurate understanding water system compliance and therefore, is needed to support the agency's oversight responsibilities under SDWA. As described in the CMD Strategic Plan, an internal analysis of Safe Drinking Water Information System (SDWIS) data quality conducted in 2009 found inconsistencies in the health-based and monitoring violation records in Safe Drinking Water Information System Federal Data Warehouse (SDWIS FED) compared to State records. The evaluation found that health-based violations were 61 percent accurate, and the monitoring violations were as low as 21 percent accurate, meaning that the recorded health-based violations for a system or the lack of recorded violation could be incorrect nearly one third of the time. The reasons for low data quality were both incorrect compliance determinations and correct information not transmitted properly to the EPA's database (USEPA, 2022a). In 2011 the Government Accountability Office (GAO) concluded that poor data quality and reliability limit the EPA's ability to target enforcement priorities and communicate PWS performance (USGAO, 2011) and in 2006, GAO concluded that the EPA should ensure that data on water systems' test results, corrective action milestones, and violations are current, accurate, and complete (USGAO, 2006). In light of the findings the EPA made in the CMD Strategic Plan as well as the GAO's 2006 and 2011 recommendations, the EPA determined that annual reporting of CMD is needed to support the agency's oversight responsibilities by providing the EPA a more complete and accurate understanding water system compliance.

Section 1445(a) of the SDWA authorizes the EPA to require any person (including water systems and States) subject to SDWA to make such reports as the EPA may reasonably require by regulation to assist the agency in determining whether such person has acted or is acting in compliance with SDWA. Under section 1413(a)(1)-(3) of SDWA, States with primary enforcement authority are required to adopt drinking water regulations no less stringent than NPDWRs, adopt and implement adequate procedures for the enforcement of those regulations, and keep records and make reports with respect to those activities as the EPA may reasonably require by regulation. The annual reporting of CMD as required by this final rule will strengthen the agency's ability to conduct oversight of PWS compliance with NPDWRs and primacy States' implementation of the Public Water System Supervision (PWSS) program. Evaluating PWS compliance with the NPDWRs is based on the review and evaluation of sample results and operational data collected by PWSs and submitted to primacy States. Currently, the EPA only receives State data on water system violations, water system inventory, and other information, such as enforcement actions, which does not allow the EPA to fully assess trends in water system compliance with NPDWRs. As a result, in this rule, the EPA is requiring annual reporting of CMD to assist the agency in Federal oversight of primacy agency and PWS compliance with SDWA requirements.

Requiring States to report CMD annually will assist the EPA in routinely evaluating the quality of selected drinking water data on health-based and monitoring violations. This in turn will improve the EPA's ability to oversee the States' implementation of the SDWA and to provide more complete and accurate information on compliance to Congress and the public, consistent with GAO's recommendations (USGAO, 2011). A complete list of GAO recommendations can be found at: https://www.gao.gov/assets/gao-11-381.pdf and in the docket for this rule (EPA-HQ-OW-2022-0260-0027). Finally, annual reporting of CMD is consistent with the Foundations for Evidence-Based Policymaking Act of 2018 (also called the Evidence Act), which statutorily mandates that the EPA build and use evidence to improve policy, program, operational, budget, and management decision-making (United States, 2019). As intended under the Evidence Act, States' annual reporting of CMD to the EPA will provide a more complete and accurate understanding of trends in contaminant occurrence and water system compliance, which will improve the decisions the EPA makes regarding oversight, enforcement, regulatory revisions, and training and technical assistance actions.

D. What action is the Agency taking?

Consistent with the statutory provisions and purposes described in this preamble, the EPA is finalizing a rule to (1) revise the CCR regulations and (2) establish requirements for States, territories, and Tribes with primacy to report CMD annually to the EPA.

E. Why is the Agency taking this action?

The EPA is committed to improving the accuracy and availability of drinking water data that the agency and the public receive to make informed decisions and protect public health. In passing AWIA's amendments to the CCR provisions of SDWA, Congress reaffirmed that people living in the United States have a right to know what is in their drinking water and where it comes from and highlighted a need for improvements to the annual CCRs to increase the readability, clarity, and understandability of the information, as well as the accuracy of the information presented and the risk communication. These revisions address those needs and require CCRs to include certain information about lead in drinking water. This final rule also requires CCRs to be distributed more frequently to customers of systems serving at least 10,000 persons. These efforts to improve right-to-know access align with decades of Congressional direction, including the priorities in the Infrastructure Investment and Jobs Act, commonly referred to as the Bipartisan Infrastructure Law (United States, 2021) as well as the EPA's Justice40 Initiatives to support small, disadvantaged, or underserved communities, who are likely to have the most difficult time accessing and understanding information about their drinking water. This final rule would improve public health protection and further the goal of the 1996 SDWA “right-to-know” provisions by improving access to and clarity of drinking water data so that customers of CWSs can make informed decisions about their health and the health of their families.

The current reporting requirements for primacy States under § 142.15(a) provide the EPA with information on system inventory, the presence of violations, and other information, such as State enforcement actions. Although the EPA may ask for additional data from States on a case-by-case basis as part of the annual (or more frequent) file review conducted under § 142.17, primacy States are not required to regularly report the CMD that they receive from PWSs and retain as a condition of primacy. As a result, the EPA does not have the data necessary to better understand nationwide trends, to conduct the agency's required oversight responsibilities, and to provide effective compliance assistance. Requiring States to report CMD will allow the EPA to comprehensively evaluate and quantify compliance with maximum contaminant levels (MCLs), maximum residual disinfectant levels (MRDLs), and other requirements of drinking water regulations, to better ascertain the effectiveness of treatment technologies and other water system operational issues, and to identify and respond to regulatory implementation challenges more readily. States' reporting of CMD also will provide ancillary benefits, including supporting periodic reviews of existing regulations, enabling a more comprehensive approach to identifying infrastructure needs, and informing the EPA and State collaborative efforts to deliver technical and funding assistance to water systems that more effectively addresses underlying technical, managerial, and financial capacity-building needs. In addition, requiring all primacy States to report CMD will allow the EPA to identify geographic and demographic trends in contaminant occurrence and water system compliance.

Therefore, pursuant to section 1445(a)(1)(A) and section 1413(a)(3) of the SDWA, the EPA is requiring all primacy States, territories, and Tribes to submit CMD for all NPDWRs to the EPA annually. This revision to § 142.15(b) does not change existing requirements for PWSs to report CMD to primacy agencies or for primacy agencies to retain records of CMD.

II. Background

A. Overview of Consumer Confidence Report Rule

CCRs are a centerpiece of the public right-to-know provisions in SDWA. The information contained in CCRs can raise consumers' awareness of where their water comes from, help them understand the process by which safe drinking water is delivered to their homes, and educate them about the importance of preventative measures, such as source water protection, that ensure a safe drinking water supply. CCRs can promote a dialogue between consumers and their drinking water utilities, can encourage consumers to become more involved in decisions that may affect their health, and may allow consumers to make more informed decisions about their drinking water. CCRs also provide important drinking water information on source water assessments, health effects data, and the water system.

The SDWA Amendments of 1996 originally created section 1414(c)(4), which required CWSs to provide annual CCRs to their customers to better protect health of consumers by providing a detailed report on the state of their drinking water supply. The EPA promulgated the Consumer Confidence Report Rule in August 1998 and the rule established content and delivery requirements for CWSs (USEPA, 1998b). CCRs must include information on the water system; sources of water; definitions of key terms; detected contaminants; the presence of Cryptosporidium, radon, and other contaminants; compliance with the NPDWRs; variances and exemptions; and additional required information. Systems are required to deliver the reports annually by July 1 through mail or other direct delivery methods. As described in section 1414(c)(4)(C) of SDWA and the EPA's implementing regulations at § 141.155(g), CWSs serving fewer than 10,000 people may obtain a waiver from the requirement to mail or otherwise directly deliver the CCR to each customer; such systems must meet requirements to provide notice of and access to the CCR in other ways.

Since the original CCR Rule was promulgated in 1998, the most significant update was to clarify the CCR regulations regarding electronic delivery in a policy memorandum that responded to Executive Order 13563 (2011). The Executive order charged each Federal agency to “develop a plan under which the agency will periodically review its existing significant regulations to determine whether any such regulations should be modified, streamlined, expanded, or repealed so as to make the agency's regulatory program more effective or less burdensome in achieving the regulatory objectives.” The EPA identified the CCR Rule as one of the regulations to “explore ways to promote greater transparency and public participation in protecting the Nation's drinking water in keeping with Executive Order 13563's directive to promote participation and the open exchange of information.” Stakeholders noted that there had been an increase in the number and type of communication tools available since 1998 when the Consumer Confidence Report Rule was promulgated. In 2013, the EPA released a memorandum, Safe Drinking Water Act—Consumer Confidence Report Rule Delivery Options, along with an attachment entitled Consumer Confidence Report Electronic Delivery Options and Considerations (USEPA, 2013). The memorandum describes approaches and methods for electronic delivery that the EPA interpreted as consistent with the existing CCR Rule requirement to “mail or otherwise directly deliver” a copy of the report to each customer and consistent with providing flexibility for alternative forms of communication.

B. Overview of Compliance Monitoring Data Requirements

Under SDWA, the EPA authorizes States, territories and Tribes for primary enforcement responsibility or “primacy” for PWSs. PWSs are subject to NPDWRs that include monitoring and reporting requirements to ensure compliance with drinking water standards. Under § 142.14, States, territories, and Tribes with primacy are required to maintain records submitted to the primacy agency under the reporting requirements established for the NPDWRs, including records of compliance monitoring results and related monitoring information necessary to determine whether a PWS complies with NPDWRs.

The EPA currently requires primacy agencies to submit quarterly and annual reports, in a format prescribed to the Administrator (§ 142.15(a)). These reports are limited in scope because they focus only on system inventory, violations, and other information, such as enforcement actions. Under § 142.17, the EPA is must review at least annually the compliance of each primacy State, territory, or Tribe with the regulatory requirements for primacy in the 40 CFR part 142, which includes adoption and implementation of adequate procedures for enforcement of drinking water regulations, including the requirements for systems to conduct monitoring and to report sample results and related monitoring data to primacy agencies.

This final rule revises § 142.15(b) to require all States, territories and Tribes with primacy to report the data necessary for determining compliance with NPDWRs, which includes both sample results and the related monitoring data that show whether the requirements for number of samples, sample schedule, sample location, and analytical methods have been satisfied. See section VI.B.3 of this preamble for the discussion on the revised scope of reported CMD.

Following promulgation, the EPA will collaborate with primacy agencies that use SDWIS State, and those that use alternative data management systems, to assure a low administrative burden of the CMD reporting requirement. As the EPA is currently in the process of developing the Drinking Water State-Federal-Tribal Information Exchange System (DW-SFTIES) as the long-term replacement for SDWIS State, the EPA plans to develop an automated data extraction feature into DW-SFTIES. Primacy agencies that choose to adopt DW-SFTIES for data management purposes will be able to use this planned functionality to meet the annual CMD reporting requirement. Prior to adoption of DW-SFTIES, the EPA will facilitate primacy agency reporting to minimize reporting burden. A primacy agency could submit CMD using one of two formats:

(1) As a data extract using the EPA's SDWIS State Data Extraction Tool; or

(2) As an extracted copy of its database and database documentation.

The EPA currently provides a SDWIS Data Extraction Tool to 42 primacy agencies that use SDWIS State, which supports their sharing of CMD with the EPA for the Six-Year Review of Drinking Water Standards. The Data Extraction Tool extracts CMD from a SDWIS State database and packages it in a file that can easily be submitted to the EPA. Prior to the implementation date for the annual CMD reporting requirement and based on planned EPA-state workgroup input and testing, the EPA will enhance the Data Extraction Tool to enable these primacy agencies to automatically extract and annually submit the required CMD to the EPA.

Alternatively, primacy agencies can submit to the EPA a database extract and share data documentation that describes the data structure and data element definitions. The EPA will work with the eight States, five territories, and one Tribe with PWSS program primacy that do not currently use SDWIS State to submit a database extract to meet the annual CMD reporting requirement.

C. Applicability

The EPA is finalizing revisions to the CCR requirements and establishing a new requirement for annual CMD reporting by States as described in this preamble. The revisions to the CCR requirements in 40 CFR part 141 apply to existing and new CWSs. A CWS is a PWS that serves at least 15 service connections used by year-round residents or regularly serves at least 25 year-round residents (§ 141.2). The EPA considers a year-round resident to mean an individual whose primary residence is served by the water system, even if they may not live at the residence 365 days a year (USEPA, 1991). Out of the nearly 155,000 PWSs in the United States, about a third—approximately 49,000—are considered CWSs. These systems range from large municipal systems that serve millions of consumers to small systems that serve fewer than 100 consumers. The rest of the water systems in the United States, or approximately 106,000 systems, are either transient non-community systems, which do not serve the same people on a day-to-day basis (for example, highway rest stops), or non-transient non-community systems, which serve at least 25 of the same people at least six months of the year (for example, schools). Because the CCR rule provisions in 40 CFR part 141, subpart O apply only to CWSs, as provided by Congress in the 1996 Amendments to SDWA, transient and non-transient non-community systems are not affected by revisions to the CCR made in this final rule.

The EPA notes that many water wholesalers are also considered CWSs. If such a system does not sell water to any customer (defined as billing units or service connections to which water is delivered by a CWS (§ 141.151(c))), the system will not have to prepare and submit a CCR. However, these systems must provide the relevant information to the purchaser, also known as a consecutive system, so that the purchaser can prepare a CCR and provide it to their customers (§ 141.152(d)).

The CCR revisions in this rule also include special primacy and recordkeeping requirements in §§ 142.14 and 142.16 that are applicable to States, Tribes, and territories with primacy. Currently, all States and territories except Wyoming and the District of Columbia have primacy. The Navajo Nation is the only Indian Tribe to have primacy.

The new requirement for reporting CMD to the EPA in § 142.15 applies to States, territories, and Tribes with primacy.

D. Consultations

Section 1414(c)(4)(F)(i) of the SDWA requires the agency to consult with “public water systems, environmental groups, public interest groups, risk communication experts, and the States, and other interested parties” in developing revisions to the Consumer Confidence Report Rule. In addition to seeking and considering public comment on the proposed rulemaking, the EPA consulted with various stakeholders to solicit input on the rulemaking prior to publication of the proposal. The EPA sought recommendations from the National Drinking Water Advisory Council (NDWAC or Council) in four key areas: addressing accessibility challenges, including translating CCRs and meeting Americans with Disabilities Act requirements; advancing environmental justice (EJ) and supporting underserved communities; improving readability, understandability, clarity, and accuracy of information and risk communication of CCRs; and CCR delivery manner and methods, including electronic delivery. The NDWAC provided the EPA with its recommendations on December 14, 2021 (NDWAC, 2021). On April 26, 2022, the EPA hosted a virtual public listening session, in which the EPA provided a brief introduction and overview of the project and purpose and allowed registered attendees to provide input on specific topics and heard verbal comments from interested attendees.

The EPA sought input from Tribal governments as part of Tribal consultation, along with members of State, local government, and utility associations as part of a federalism consultation. The EPA sought input from Tribal governments from March 14, 2022, through June 14, 2022, to better inform the development of the proposed Consumer Confidence Report Rule Revisions (USEPA, 2022c). The EPA hosted two informational webinars for Tribal officials, which included the opportunity for participants to ask questions and provide feedback. Tribes were able to comment on any aspect of the forthcoming rulemaking, and the EPA requested specific input from Tribal governments on elements related to potential regulatory requirements of the proposed Consumer Confidence Report Rule Revisions and suggestions that would assist Tribal governments in implementing and complying with the rule. After the initial Tribal consultation, the agency expanded the scope of the rulemaking to include a requirement for primacy agencies to submit comprehensive CMD annually to the agency. The EPA offered supplemental consultation to the Navajo Nation as a primacy agency who could be affected by the expanded scope. No additional comments were received during the Supplemental Tribal Consultation period. Tribal consultation and coordination were conducted in accordance with the EPA Policy on Consultation and Coordination with Indian Tribes (https://www.epa.gov/tribal/consultation-tribes).

On August 25, 2022, the EPA initiated a 60-day federalism consultation by hosting a meeting with members of state and local government associations and invited water utility associations. The EPA presented background information on the proposed rulemaking and sought feedback on key considerations for the rulemaking. The EPA requested feedback on the content of reports delivered twice a year, support for communities with large proportions of non-English speaking populations, and the inclusion of annual collection of compliance monitoring data within the rulemaking. A summary of the CCR Rule Revisions federalism consultation and comments received is included with supporting materials in the docket (USEPA, 2022d).

The EPA also used input received through the Lead and Copper Rule Revisions (LCRR) review process that were related to CCRs and communicating to consumers to inform the development of the revised CCR rule. The Agency issued the final Lead and Copper Rule Revisions (Docket ID EPA-HQ-OW-2017-0300) on 86 FR 4198, January 15, 2021. On January 20, 2021, President Biden issued the “Executive Order on Protecting Public Health and the Environment and Restoring Science to Tackle the Climate Crisis.” (86 FR 7037, January 25, 2021) (“Executive Order 13990”). Section 1 of Executive Order 13990 states that it is “the policy of the Administration to listen to the science, to improve public health and protect our environment, to ensure access to clean air and water, . . . and to prioritize both environmental justice and the creation of the well-paying union jobs necessary to deliver on these goals.” Executive Order 13990 directed the heads of all Federal agencies to immediately review regulations that may be inconsistent with, or present obstacles to, the policy it establishes. In accordance with Executive Order 13990, the EPA reviewed the LCRR to engage meaningfully with the public regarding this important public health regulation before it took effect. As part of the EPA's commitment to EJ, the EPA specifically sought engagement with communities that have been disproportionately impacted by lead in drinking water, especially lower-income people and communities of color that have been underrepresented in past rule-making efforts in 2021 (USEPA, 2021b). Feedback from the LCRR virtual engagement discussions related to CCRs and drinking water notifications were reviewed, summarized, and considered to inform this rulemaking (USEPA, 2021c).

In developing revisions to the CCR Rule, the EPA conducted separate interviews with nine states, nine CWSs of varying sizes representing different regions, as well as a county health official (risk communication expert), a public interest group, and an EJ organization. The purpose of the interviews with States and water systems was to identify level of effort, costs, and burden associated with CCR implementation, data management and reporting. The purpose of the interviews with the other organizations was to discuss experiences related to drinking water and/or CCRs, including concerns of their members, outreach and communication strategies, translations, and any other challenges they experience.

Additional details on the consultations are provided in the proposed rulemaking (USEPA, 2023), and supporting documents are included in the rule docket (EPA-HQ-OW-2022-0260).

III. Content of Consumer Confidence Reports

CCRs contain a great deal of highly technical information. In amending SDWA section 1414(c)(4), Congress directed the EPA to revise the regulations to increase the readability, clarity, and understandability of the information in the CCRs and to increase the accuracy of information presented, and risk communication. The EPA interprets this statutory directive as setting a goal to make CCRs easier for every CWS consumer to understand so that they may make informed decisions about their health and any risks associated with their drinking water.

A. Report Summaries

1. Proposal

CCRs provide a valuable communication opportunity for the community water systems to provide information to consumers. As a result, in some cases, reports can be quite lengthy. During the EPA's Retrospective Review, feedback from stakeholders recommended that reports should include an at-a-glance summary to improve understandability of reports (USEPA, 2012). The NDWAC expanded on this idea in recommending that CCRs include a summary page to convey important information and key messages in a simple, clear, and concise manner at the beginning of the report (NDWAC, 2021).

The EPA proposed to amend § 141.156 to require water systems to include a summary at the beginning of each CCR. The proposed rule identified the following pieces of information for inclusion in the report summary: summary of violations and ALEs, information on how consumers can contact the system to receive additional information, and, if applicable, information on how consumers can receive assistance with accessibility needs, such as translating the report into other languages, and a statement identifying that public notifications (PN) of violations or other situations are delivered with the CCR, as allowed in 40 CFR part 141, subpart Q. Systems that include PNs in the CCRs often place them at the end of the report, which may be overlooked by consumers. Including a statement in the summary about PNs in the report will help consumers find important information about violations that may or may not be included in the CCR itself, for example, if the violation occurred outside of the CCR reporting period. This summary should, as much as possible, be accessible and understandable to the public. The proposed rule also incorporated the flexibility to allow systems to present the information as an infographic to improve clarity and understandability. A summary included at the beginning of the reports allows consumers to quickly view key information and may lead to more people engaging with the reports. The EPA also requested comments on information that should be included in a report summary.

2. Public Comment and the EPA's Response

The EPA received many comments on the proposed inclusion of summaries in CCRs. A few commenters supported the requirement for CCRs to include a summary, with one commenter noting the summary offers an opportunity for systems to communicate key messages, and another noting summaries could help encourage consumers to read the report. Several commenters supported the proposed content requirements for the summary: contact information, translation assistance information, identifying public notices, and violations/ALEs.

Several commenters disagreed with the addition of a summary citing concerns that it would likely be redundant with required content of the reports, as well as adding length to reports. A few commenters suggested the inclusion of a summary should be limited in some way, for example, applying the requirement for reports exceeding 10 pages in length, or to very large systems serving over 100,000 people. A few commenters expressed concern related to consumer perception of the summary, including that the summaries would confuse consumers by describing technical concepts, discourage consumers from reading the remainder of the report, and erode consumer confidence by highlighting violations. A couple of commenters noted that by adding the required summaries, it would increase burden for systems, and to States that support CWSs by developing the CCRs for them.

The EPA agrees that including a summary in CCRs will benefit customers by clearly highlighting key information near the beginning of the report. In response to concerns from commenters that the summaries will confuse or alarm consumers, the EPA has modified § 141.156(a) to add that summaries must include a “brief description of the nature of the report” as a brief main message to consumers, which will help explain the purpose of the report. The EPA anticipates that the main message would most likely consist of one to three sentences. The inclusion of a “main message” is consistent with the Centers for Disease Control and Prevention's Clear Communication Index (CDC, 2019) recommendation of including the most important information at the beginning, so that it is easy to find, what the audience should remember, and may also add a call to action (what action the source, in this case CWS, want people to do after receiving and understanding the main message). For example, systems could identify the document as the water quality summary report. Although the EPA agrees that the addition of the summary may add length to the reports, the agency has limited the minimum required information to contact information, summary of violations, instructions for how to receive a paper copy or translation assistance (as applicable) and identifying if public notices are included in the report. Because all CCRs will benefit from a summary section to ensure the key information is consistently found near the beginning of the report, the EPA disagrees with commenters that the requirement to include summaries should be limited to the reports that exceed a specified page length or by system size. The EPA agrees that developing a summary will require additional efforts for CWSs and States to adapt existing processes. However, based on the targeted interviews, the EPA found that for most States or systems that developed a template to include most of the required elements under the existing CCR rule, the first version required the highest level of effort, but then in subsequent years, the additional effort to update or revise the template language was minimal (USEPA, 2022e and USEPA 2022f). Following the promulgation of final revised Consumer Confidence Rule, the EPA intends to work with stakeholders in developing implementation resources to support States and systems in meeting the new requirements.

The EPA disagrees with commenters that believe the summaries will be redundant with report contents. Although the summary requires information described elsewhere in the existing regulations, the CCR will not require water system to provide the same information, the same way, twice. In addition, while the existing CCR rule in § 141.153(h)(2) requires systems to provide a telephone number to contact the CWS for additional information, that requirement would be met with the summary section at the beginning of the report. The EPA disagrees with requiring the suggested additional information in the summaries, because if the summary is too long then that defeats the purpose; specifically, additional information could overwhelm the consumers with information that would be better suited for the body of the report. CWSs could choose to include additional information, such as an index to help consumers navigate the report to important elements like the contaminant data section. Alternatively, systems could use formatting within the body of the report to highlight specific information, like text boxes.

3. Final Revisions

For the final rule, the EPA modified § 141.156(a) as proposed to require a brief description of the nature of the report. The final revised CCR rule sets minimum content requirements for the report summaries in § 141.156: contact information, brief overview of compliance information in the report, how to request a paper copy of the report for systems using electronic delivery, translation contact information, identification of public notices included in the report, and standard language to encourage sharing the report. The final rule also retains flexibility for systems on how to present the information, include additional features or use infographics. In addition, the EPA made conforming edits in § 141.156 (c)(2) of the summary requirements to reflect changes to § 141.153(h)(3) that the agency made in response to comments received on translation access in CCRs.

B. Contaminant Data Section

1. Proposal

The original Consumer Confidence Report Rule required that data for detected contaminants subject to mandatory monitoring be displayed in one or more tables. Since then, advances in technology and graphics have allowed data to be presented in clearer and more understandable ways using readily available software. The EPA proposed revising § 141.153(d) to allow water systems flexibility in formatting contaminant data to present the information in a more readable and understandable format by replacing “contaminant data table(s)” with “contaminant data section.” Despite allowing additional flexibility on how the information is presented, the EPA did not propose to change the type of information on detected contaminants that systems need to report in § 141.153(d)(4), such as reporting the MCL, Maximum Contaminant Level Goal (MCLG), the highest contaminant level used to determine compliance with a NPDWR, and the range of detected levels for each detected contaminant.

2. Public Comment and the EPA's Response

The EPA received many comments supporting the agency's proposal to allow water systems flexibility in formatting contaminant data to present the information in a more readable and understandable format. Commenters stated that they appreciate the flexibility proposed in the revisions that would allow water systems to provide contaminant data sections instead of contaminant data tables and support the use of infographics and other means to present water quality data. A couple of commenters felt that the current CCR is bogged down by tables of non-detects and information that does not concisely present immediate threats to consumers and that large blocks of text and long sentences can act as barriers to readability and could result in a decrease in readership and understanding. By revising the contaminant data formatting requirements commenters said that it will allow water systems to use engaging and meaningful methods to increase readership and understandability of the report contents and let water systems tailor the presentation of complex information to their unique audiences.

While many commenters agreed with the EPA's proposal to allow flexibility in how to present contaminant data, a couple of commenters disagreed with this approach. One commenter stated that allowing water systems to have the flexibility in the contaminant data section would allow water systems to continue providing incomplete and inaccurate information about health effects, contaminant sources, and other information contained in the report. Another commenter said that presenting the required analytical data, using inherent scientific terms and units that accompany them, can be confusing to the public and the continued use of data tables enables the water system to configure the data in a concise manner.

The EPA agrees that giving systems flexibility in how they can present the required analytical data will allow water systems the opportunity to present the information in a more readable and understandable format, which will help increase the readability, clarity, and understandability of CCRs as required by AWIA. During the EPA's consultations prior to issuing the proposed rule, stakeholders identified the use of infographics to display information as one way to help improve understandability of technical concepts in the reports. The EPA disagrees that allowing this type of flexibility would permit water systems to provide incomplete or inaccurate information to consumers. The requirements on the type of information on detected contaminants that systems need to report in § 141.153(d) would ensure that the report includes complete information, and the existing CCR requirement in § 141.151(a) that “reports must contain information on the quality of the water . . . in an accurate and understandable manner,” would prevent the inclusion of inaccurate information. While the EPA agrees that using tables to present scientific terms and units can be a way for systems to configure the data in a concise manner, that is not the only way that data can be provided in a meaningful way for the public, and as a result, the agency is finalizing requirements that will allow systems the flexibility to decide how to present contaminant data, including in tables as seen in current CCRs, in a manner best suited for their customers.

3. Final Revisions

The EPA is finalizing amendments to § 141.153(d)(2) to state that “The data relating to these contaminants must be presented in the reports in a manner that is clear and understandable for consumers. For example, the data may be displayed in one table or in several adjacent tables.” The rule does not allow the contaminant data to be presented in such a way that it would be difficult for consumers to read or understand; systems may continue to use one or more tables to display contaminant data. In addition, the EPA has replaced “contaminant data table(s)” with “contaminant data section” throughout § 141.153(d). These final revisions to § 141.153(d) will allow water systems flexibility in formatting contaminant data to present the information in a more readable and understandable format.

C. False and Misleading Statements

1. Proposal

In light of the AWIA requirement for the EPA to revise the Consumer Confidence Report Rule to increase the accuracy of information and risk communication presented in the CCR, the EPA included a provision in the proposed rulemaking to explicitly prohibit water systems from including false or misleading statements in their CCRs. Among other things, CCRs are intended to provide consumers, especially those with special health needs, with information they can use to make informed decisions regarding their drinking water. To make informed decisions, consumers need clear and accurate reports. Feedback received during the pre-proposal stakeholder engagement included concern that some CCRs have misleading images and statements about the safety of the water that may not be supported by the contaminant data or other information in the reports.

2. Public Comment and the EPA's Response

The EPA received many adverse comments on the provision to explicitly prohibit false and misleading statements in CCRs. Commenters expressed concern that the provision violates the First Amendment, noting in particular that it would have a “chilling effect” on water systems leading them to self-censor the information they provide in the CCRs to avoid potential violation. In the proposed rule, the EPA used the example that “stating the water is `safe' may not accurately reflect the safety of the water for sensitive populations, such as people with weakened immune systems, potential lead in drinking water exposure, or other inherent uncertainties and variabilities in the system, such as the potential presence of unregulated contaminants or fluctuation in water chemistry.” Commenters strongly objected to the EPA's use of that as an example of a misleading statement and argued that discouraging or prohibiting systems from using the word “safe” to describe their drinking water quality in CCRs, would cause public distrust and hinder communication with customers, in addition to contradicting the intent of SDWA to use the CCRs to build the public's confidence in the safety of drinking water. Commenters also argued that, in their review, the EPA was inappropriately equating “safe” as without any risk. The commenters noted that the required statement on vulnerable populations in § 141.154(a), already communicates the potential health risk to consumers that may be immuno-compromised. One commenter noted that the existing rule already has sufficient safeguards against false or misleading statements, and state primacy agencies are already resolving cases where water systems contradict the clear meaning of water quality data.

Other commenters supported the provision to prohibit false and misleading statements, and cited several examples of CCR reports they felt exemplified misleading communication to customers. The commenters argued that CCRs should be treated as “right-to-know” reports in the first instance to support educating consumers in a transparent manner of the risks associated with their drinking water and that statements water systems make to encourage consumer confidence detract from the primary purpose and obscure data or information related to potential health risks to consumers. In particular, commenters highlighted examples of statements comparing tap sampling results for lead to the lead action level, and water system conclusions regarding potential public health impacts even though the lead action level is not a health-based level but used as a screening tool to assess the efficacy of corrosion control treatment. For example, even if a system's tap sampling does not exceed the lead action level, corrosive water can cause lead to leach into drinking water if it is present in lead services lines, certain galvanized service lines, as well as premise plumbing inside the home, including lead-bearing fixtures and solder.

After consideration of the comments on this issue, the EPA agrees that a provision explicitly prohibiting false or misleading statements could have a chilling effect on water systems in preparing their reports. In addition, the existing CCR rule in § 141.151(a) precludes false statements because it provides that “reports must contain information on the quality of the water delivered by the systems and characterize the risks (if any) from exposure to contaminants detected in the drinking water in an accurate and understandable manner” and, as demonstrated by decades of implementation, has not created a “chilling effect” on water systems. Enforcement of the existing CCR requirements could be used to address instances of a system including false statements or information in their CCR.

Similarly, the existing CCR rule in § 141.153(h)(5) states that “systems may include such additional information as they deem necessary for public education consistent with, and not detracting from, the purposes of the report.” The purposes of the report, as described in § 141.151(a), are: to “contain information on the quality of the water . . . and characterize the risk (if any) from exposure to contaminants detected in the drinking water in an accurate and understandable manner.” The EPA interprets these provisions as precluding misleading statements by water systems because such statements would detract from the purpose of the report. For example, the following could mislead customers depending on the context or the situation: “Your drinking water contains no lead when it leaves our treatment plant.” This statement, without additional context or information on other sources of lead in drinking water, and depending on the relevant system-specific facts, could detract from the purpose of the report by downplaying the situational information and potential risks to consumers served by the system. While the statement could be verified as accurate by the primacy agency, by itself it does not address other potential sources of lead prior to reaching taps within households, including lead service lines or premise plumbing, and does not account for whether a system is operating with Corrosion Control Treatment (CCT). When consumers have complete information, they can confidently make decisions and take additional precautions if needed to protect themselves, particularly, if they may be sensitive to impacts of a particular contaminant, such as a person that is pregnant in the case of lead. See section III. E. of this preamble for the discussion of reporting lead service line inventory or corrosion control efforts information that will be required in CCRs by 2025 and 2027, under the LCRR and revised CCR rule respectively (see section VIII. A. of this preamble for a discussion of the compliance date).

The EPA acknowledges that some systems have struggled with communicating in an accurate, clear, and understandable manner regarding the safety of their drinking water and in particular, lead in drinking water Systems can always work with their primacy agencies if they have questions about appropriate risk communication, and the EPA encourages systems to do so. In addition, the EPA is working to address those concerns in its efforts to revise the NPDWR for lead. For example, in the proposed Lead and Copper Rule Improvements (LCRI), the EPA proposed to revise the mandatory language about lead in drinking water in the CCR. Once the final LCRI is promulgated, the EPA intends to work with stakeholders on developing CCR communication tools and guidance to continue support CCRs that are accurate, clear, understandable, and readable with regards to lead as well as other contaminants.

3. Final Revisions

Upon consideration of the comments received, the EPA has decided not to include the proposed provision to prohibit false and misleading statements in the final rule for the reasons described in this section. The EPA notes that there may be situations where a description of water as “safe” would not be a misleading statement .

D. Risk Communication

1. Proposal

AWIA Section 2008 (SDWA section 1414(c)(4)(F)(i)(I)(bb)) requires the EPA to revise the CCR Rule to increase the “accuracy of information presented, and risk communication” in the reports. The EPA received general feedback from consumers during pre-proposal outreach that the CCRs can be confusing, overly technical, and in certain circumstances unnecessarily alarming to some readers. The NDWAC also made several recommendations that the EPA agrees would improve risk communication. Specifically, the NDWAC recommended revising, simplifying, and clarifying language in § 141.154, which describes required additional health information that must be included in the report. The proposed rule included suggested revisions to § 141.153 Content of the reports and § 141.154 Required additional health information. More specifically, the EPA proposed new definitions in § 141.153(c) to include in the reports as applicable definitions for contaminant, parts per million (PPM), parts per billion (PPB), parts trillion (PPT), pesticide, and herbicide. The EPA also proposed to change the additional informational language in § 141.154(b) and (c) for nitrate and arsenic that systems must include when they detect those contaminants at specified levels below the MCL. The EPA also proposed revisions in § 141.153(h)(1) that systems include in CCRs a brief explanation regarding contaminants which may reasonably be expected to be found in drinking water including bottled water, and § 141.153(h)(7) that include compliance descriptions for systems subject to the Total Coliform Rule in 40 CFR part 141, subpart Y to improve risk communication by simplifying overly technical and confusing language.

For the required additional informational statement on lead, arsenic, and nitrate in § 141.154, systems currently may write their own educational statements in consultation with their primacy agency. The EPA proposed to extend this type of flexibility to specific new definitions that the EPA proposed in § 141.153(c)(5) (i.e., ppm, ppb, ppt, pesticide, and herbicide); a new proposed requirement for systems to include an explanatory statement with Unregulated Contaminant Monitoring Rule (UCMR) results in § 141.153(d)(7); and descriptions of assessments required under the Revised Total Coliform Rule in § 141.153(h)(7). To ensure consumers receive material that appropriately reflects water quality and potential health risks, the EPA proposed that systems may use the language provided in the CCR Rule, or they may develop their own language, but they will need approval by the primacy agency.

2. Public Comment and the EPA's Response

Several commenters disagreed with the proposed definitions for ppm, ppb, ppt because the definitions are circular and thus would not improve consumer understanding and do not provide context on what they are defining, which would likely confuse the reader. A few commenters suggested replacing them with analogies such as “X drops in an Olympic sized swimming pool,” or “one cent out of X dollars.” The EPA does not believe it is necessary to provide analogies in regulatory text, systems may choose to use them in CCRs to support public education without detracting from the purpose of the purpose of the report, consistent with § 141.153(h)(5). The EPA agrees with commenters that the definitions of ppm, ppb, ppt are not necessary to include in § 141.153(c) to support consumer understanding because the definitions did not provide helpful information to the readers, are redundant, and circular. Many, if not all, reports already include the definition of the acronyms, and some include additional explanations or analogies.

Several commenters mentioned that the EPA should further revise the mandatory language to improve readability, clarity, and understandability, noting that the required language is cumbersome, difficult to understand, and duplicative. One commenter expressed concern that the language in § 141.153(h)(1) gives customers a false sense of security over the safety of bottled water and noted that it may be a safe alternative during emergency situations. A few commenters support providing systems with flexibility in developing CCR content, and recommended the EPA expand the flexibility to develop alternative language for all mandatory language.

The EPA received several comments on the additional health information statements for arsenic and nitrate in § 141.154(b) and (c). A few commenters suggested that the EPA further edit the statements to improve the readability and simplify the language to lower the calculated reading level. Some commenters claim that the health statements erode consumer confidence and cause confusion because they are required to be made in the absence of an MCL violation. A few commenters recommended revising discussion on monitoring frequency in § 141.154(b) and (c) and note that the statements do not indicate a violation, and if the system did violate the standard, they would be required to provide consumers with public notice. Another commenter recommended that the EPA should require a more robust discussion of health effects of contaminants.

The EPA disagrees with commenters that the CCR rule should allow systems the flexibility to develop alternative language for all required CCR text in §§ 141.153 and 141.154 because the agency believes the mandatory text in the rule supports consistent communication and reduces burden on systems to develop their own content and it reduces the burden for primacy agencies to review the content. In addition, SDWA section 1414(c)(4)(B) specifies required content in CCR, including brief statements regarding the health concerns of contaminants when there is an MCL violation, provided by the EPA.

3. Final Revisions

As part of the final rule, the EPA is finalizing language in §§ 141.153 and 141.154 and definitions in § 141.153(c) for contaminant, pesticide, and herbicide as proposed. The EPA is also finalizing revisions to regulatory text in § 141.153(h)(1) that systems include in CCRs to provide a brief explanation regarding contaminants that may reasonably be expected to be found in drinking water including bottled water and § 141.153(h)(7) that include compliance descriptions for systems subject to the Total Coliform Rule in 40 CFR part 141, subpart Y. The EPA is finalizing as proposed the flexibility for systems to use alternative informational statements with approval from their primacy agency. As described in this section, the EPA is not including the proposed requirement in § 141.153(c) for reports to include definitions of ppm, ppb, ppt.

E. Corrosion Control Efforts, Action Level Exceedances Information in CCRs, and Other Lead Related Provisions

1. Proposal

AWIA amended SDWA section 1414(c)(4)(B)(iv) and (vii) to require the CCRs to include information on “corrosion control efforts” and to identify any lead ALEs for which corrective action has been required during the monitoring period covered by the CCR. The EPA proposed several revisions to the CCR rule to meet these statutory directives. To meet the AWIA requirement for reporting on “corrosion control efforts,” the EPA proposed that CWSs would need to include in the CCR an explanation of “the corrosion control efforts the system is taking in accordance with 40 CFR part 141, subpart I Control of Lead and Copper.” In addition, the proposed revised CCR rule at § 141.153(c)(3)(v) also required CCRs to include the following definition of “corrosion control efforts” in the report: Treatment (including pH adjustment, alkalinity adjustment, or corrosion inhibitor addition) or other efforts contributing to the control of the corrosivity of water, e.g., monitoring to assess the corrosivity of water. Rather than prescribing specific language to describe corrosion control efforts, the EPA proposed that systems would develop their own statement to describe their “corrosion control efforts” as defined in the proposed rulemaking because of the variation in the type of corrosion control efforts implemented by individual systems. However, the EPA also requested comments on whether the revised rule should include prescribed language for describing a system's corrosion control efforts.

To meet the AWIA requirement for systems to report lead ALEs, the EPA proposed in § 141.153(d)(8) to require systems to clearly identify in the contaminant data section any lead ALE for which corrective action was required during the monitoring period covered by the CCR, the steps consumers can take to reduce their exposure to lead and a description of any corrective actions the system has taken or will take.

The EPA also requested comments on whether the revised rule should include prescribed language for describing a system's lead ALE and corrective action. The EPA also requested comments on what information consumers would find most helpful in the CCR when a PWS identifies the actions being taken to address corrosion control efforts (§ 141.153(h)(8)(iii)) or when a system is required to identify an ALE and describe any corrective actions the system has or will take (§ 141.153(d)(8)).

The EPA proposed a minor modification to the statement on the lead service line (LSL) inventory requirement in § 141.153(h)(8)(ii) (renumbered from § 141.153(d)(4)(xi) that was codified during the LCRR rulemaking) by adding that systems need to include a link to their LSL inventory if it is available on a publicly accessible website. While the EPA has proposed additional revisions to §§ 141.153 and 141.154 within the proposed LCRI, the EPA has not proposed to delay the compliance date for revisions made under the LCRR to §§ 141.153 and 141.154 except for § 141.153(d)(4)(xii). The proposed revisions to the CCR rule renumbered § 141.153(d)(4)(xii) to § 141.153(h)(8)(i) as a technical edit.

2. Public Comment and the EPA's Response

The EPA received many comments on the proposed requirements for the corrosion control effort description in the report. Several commenters recommended that the EPA prescribe specific text, noting that plain language is difficult for systems to develop on their own, especially small systems that do not have the resources. Commenters also noted that standard language helps both systems and primacy agencies, especially those without the authority to enforce guidance or the capacity to review each system's explanation of their corrosion control efforts for adequacy. Commenters also expressed concern that allowing systems to write their statements will add confusion to the reports and increase the likelihood of inaccurate or incomplete descriptions. Some of these commenters did, however, suggest allowing operators to include additional details specific to their system or allow additional flexibility for systems to work with their primacy agencies to adapt the message as necessary.

A few commenters recommended that the rule avoid prescribed language, and instead preferred the EPA provide recommended template language in guidance. These commenters supported the flexibility for systems to develop messages to best communicate with their customers and noted that there are a variety of methods that systems can use to meet the corrosion control requirements. One commenter noted that some States do not have the option for their regulations to be more stringent than Federal regulations, which prevents those States from requiring systems to use non-binding template language. Several commenters suggested that the final rule include both prescribed language and flexibility for water systems to write their own statement. Some commenters suggested the rule include some parameters describing corrosion control efforts, such as a list of options or minimum required content. Some commenters requested clarification on whether the corrosion control efforts described would be limited to actions the system takes for the purpose of controlling corrosion deliberately (e.g., because the system is required to do so), and the time frame for the actions described.

The EPA agrees with commenters that identified benefits to both systems and primacy agencies of requiring the use of prescribed language for corrosion control efforts while also providing some flexibility so that systems can write their own statement with equivalent information. There is no one-size-fits-all approach to controlling corrosion, and therefore it would be difficult to prescribe the use of a template without allowing flexibility. Under the LCR, some, but not all, systems are required to go through a process to get a State or the EPA designation of optimal corrosion control treatment (OCCT). Some systems without a designation of OCCT have nonetheless installed treatment to control corrosion while others have not. Moreover, all systems conduct tap sampling to assess corrosivity of water. To ensure the description accurately and clearly describes the system's corrosion control efforts, while also providing systems with flexibility in crafting their explanation to fit their unique circumstances, the final rule includes two templates depending on whether the system has a designation of OCCT. Each template also serves to identify the required elements that must be included in an equivalent statement if a system chooses to write its own statement.

The EPA received several comments related to the proposed definition of corrosion control efforts. Commenters expressed concern that the proposed definition did not meet AWIA's intent to improve readability, clarity, and understandability, and noted that it used jargon terms, including “corrosivity,” “pH,” and “alkalinity”. A few commenters recommended either revising the definition to simplify it or removing it from § 141.153(c). However, a definition of “corrosion control efforts” in the CCR rule itself is useful for establishing parameters on the kinds of actions that systems could identify in their reports as efforts to control corrosion. Therefore, the final rule removes the definition from § 141.153 (c) and has incorporated it in the requirements for systems to describe corrosion control effort in their CCR (see § 141.153(h)(8)(iii)).

The EPA received several comments on the proposed requirements for information related to lead ALEs and corrective actions for systems to include in their reports in § 141.153(d)(8). A couple of commenters suggested that the EPA prescribe language in regulation and allow systems to work with their primacy agency to modify the message as appropriate. A few commenters did not support the option to include required text in regulation text that the EPA requested comments on, and instead preferred that the EPA provide example language in guidance. A couple of commenters believe the additional information in the CCR on ALEs is unnecessary because it is duplicative of existing PN requirements for systems to provide Tier 1 notice when a system has a lead ALE according to § 141.202(a). A couple of commenters supported the inclusion of steps consumers can take to reduce their exposure. One commenter suggested that health effects language should also be included in § 141.153(h)(8)(iii).

The EPA does not agree with commenters advocating for the rule to prescribe specific text for describing corrective actions the system has taken or will take to address an ALE because of the wide range of possible corrective actions that systems might take. The EPA disagrees that including information about ALEs is duplicative of PN requirements because PN serves a different purpose in alerting consumers of potential health effects, whereas CCRs provide an annual summary of the information, and offer an opportunity to provide consumers with updates on what the system is doing to take corrective action. Some consumers may have missed the initial notification or updates, and since many CWS post their CCRs online, they can refer to the information at their convenience. In addition, AWIA amended SDWA section 1414(c)(4)(B(iv) and (vii) to require CCRs to include information on a system's corrosion control efforts as well as identifying lead ALEs for which corrective action has been required by the EPA or the State. Therefore, the final rule reflects those statutory requirements.

3. Final Revisions

In response to comments, the EPA has modified the requirements from the proposed rule for systems to describe their corrosion control efforts requirements in § 141.153(h)(8)(iii) and eliminated the requirement for the CCR to include the proposed definition of corrosion control efforts from § 141.153(c). The final rule requires systems to include a description of corrosion control efforts using either a prescribed template depending on whether the system is using OCCT that was designated by the State or the Administrator in § 141.153(h)(8)(iii) or their own statement that includes equivalent information.

The EPA is providing a minor clarification to § 141.153(h)(8)(ii) (renumbered from § 141.153(d)(4)(xi) that was codified during the LCRR rulemaking) to appropriately reflect the LCRR requirements to include water systems that may have written statements in lieu of an inventory if the system has no lead, galvanized requiring replacement, or lead status unknown service lines. The requirement promulgated with the LCRR rulemaking that was renumbered in the proposed CCR Revisions required water systems to include a statement that a service line inventory has been prepared and provide instructions to access the inventory, including when the inventory consists of a statement that there are no lead service lines. Water systems may have written statements in lieu of the inventory only when the system has no galvanized requiring replacement or unknown service lines, in addition to having no lead service lines; therefore, § 141.153(h)(8)(ii) is revised to address this clarification. The EPA is finalizing § 141.153(d)(8) that requires systems to clearly identify ALEs and describe the corrective actions they have taken or will take, with a minor clarifying edit by adding “in drinking water” following the requirement to include the steps consumers can take to reduce their exposure.

IV. Translation Assistance

CCRs are valuable tools to inform consumers and allow them to make informed decisions about the health and safety of their drinking water. The EPA's existing CCR rule requires water systems serving communities “with a large proportion of non-English speaking residents, as determined by the Primacy Agency,” to include in their CCR “information in the appropriate language(s) regarding the importance of the report or contain a telephone number or address where such residents may contact the system to obtain a translated copy of the report or assistance in the appropriate language.” See § 141.153(h)(3).

SDWA section 1414(b)(4)(F)(i)(I)(aa), directs the EPA to revise the CCR requirements to “increase the readability, clarity, and understandability of the information presented in consumer confidence reports.” As described in the proposal, as of 2019, an estimated 8.3 percent of the people in the United States were considered to have limited English proficiency. Consumers with limited proficiency in English who are not able to read and understand the reports, or do not have sufficient access to that information, may not have as complete an understanding about the quality of their drinking water as more proficient English-speaking consumers.

To maintain primacy states must have the authority to require CWSs to provide CCRs as required under the CCR rule. See § 142.10(b)(6)(vii) and SDWA section 1413(a)(2).

A. Translation Support Requirements for CWSs and States

1. Proposal

The EPA proposed revisions to the CCR rule and the primacy requirements to fulfill the statutory mandate to increase the readability, clarity, and understandability of the information presented in CCRs. As noted above, the EPA's existing CCR rule requires water systems serving communities “with a large proportion of non-English speaking residents, as determined by the Primacy Agency,” to include in their CCR “information in the appropriate language(s) regarding the importance of the report or contain a telephone number or address where such residents may contact the system to obtain a translated copy of the report or assistance in the appropriate language” (§ 141.153(h)(3), emphasis is added). The EPA proposed to change “or” to “and” so that systems would be required to include both the statement about the importance of the report and contact information to obtain a translated copy of the report or assistance in the appropriate language(s). To address the concern that some systems may lack the capacity to provide translated copies of the report or translation assistance, the EPA proposed that systems “unable to provide translation support” would have to include contact information for consumers to obtain translation assistance from the State. The EPA also proposed that primacy States would have to provide translation assistance to consumers of a water system upon request and provide contact information where consumers can obtain translation assistance for inclusion in the system's report.

2. Public Comment and the EPA's Response

Several commenters expressed general support for improving the readability and understandability of the CCRs for all consumers, including those with limited English language proficiency. However, several commenters raised concerns that water systems do not have the capacity to either prepare translated copies of the report or provide translation assistance in the appropriate language. Some commenters expressed concern that States lack capacity to provide translation assistance directly to a system's customers when water systems are unable to provide translation support. In addition, some commenters suggested that it would not be appropriate to require States to provide translation assistance directly to a water system's customers. Some commenters suggested that the EPA should provide pre-approved translation services or translated versions of CCR templates in multiple languages to assist systems and States.

The EPA agrees with commenters that the agency can significantly reduce the burden on both systems and States by preparing translated templates for CCRs. In response to comments, the EPA will prepare translated templates for CCRs that include translations of technical terms used in the reports and all mandatory statements (e.g., health effects statements required under the EPA's NPDWRs). These materials will be made publicly accessible on the EPA's website and updated as needed (e.g., when new or revised mandatory health effects language is promulgated in future revisions to the CCR rule). Currently, the EPA has initiated the process of preparing translated templates and anticipates completion well before the compliance date of the rule.

The EPA also agrees with commenters that it would not be appropriate for water systems to shift their responsibility for providing readable, understandable CCRs to the primacy agency on the water system's unilateral determination that it is unable to provide translation support. Moreover, because the EPA is providing substantial support for translation assistance, the EPA believes that the challenges of preparing translated reports or providing translation assistance is substantially reduced. At the same time the EPA agrees with comments that failure to translate CCRs may result in millions of consumers not understanding the reports, which means that Congress' direction to increase the readability, clarity, and understandability of the CCRs would not be fulfilled. As a result, the EPA is finalizing a requirement for water systems serving communities with a large proportion of consumers with limited English proficiency to include information in the report where such consumers may obtain a translated copy of the report, or assistance in the appropriate language(s), or the report must be in the appropriate language(s). Some systems are already meeting this requirement; for systems that are not already meeting this requirement, the EPA's provision of translated templates for CCRs and translated mandatory language will address concerns about system capacity and availability of translation services. In addition, the EPA is finalizing a requirement for primacy States to provide technical assistance to water systems in meeting their obligations to provide translated reports or translation assistance. The requirement to provide technical assistance for this purpose is consistent with the obligations that States accept when they obtain primacy to oversee implementation of the NPDWRs and the CCR rule and is typically covered by the scope of work when they accept EPA grants under section 1443 of SDWA. See SDWA section 1413(a)(2) and “FR Template: Public Water System Supervision (PWSS) Program—SDWA 1443(a)” located in the docket for this rule (Docket ID No. EPA-HQ-OW-2022-0260). Because the EPA is making publicly available translated CCR templates and translated mandatory language for inclusion in the report, the burden of this requirement on both systems and States is significantly reduced and there should not be any water systems that are “unable to provide translation support” to their customers.

3. Final Revisions

Section 141.153(h)(3) of the final rule requires water systems serving communities with a large proportion of consumers with limited English proficiency, as determined by the Primacy Agency, to include in the report a telephone number, address, or contact information in the appropriate language(s) regarding the importance of the report and either information where such consumers may obtain a translated copy of the report or assistance in the appropriate language(s), or the report must be in the appropriate language(s). Each State with primacy must, as a condition of primacy, provide water systems with technical assistance in meeting the applicable requirements in § 141.153(h)(3) . Examples of technical assistance include providing water systems with contact information for inclusion in the system's report where consumers can contact the State for translation assistance upon request or providing resources for water systems to translate their reports, including EPA-provided translations of required content for CCRs (e.g., health effects language, definitions) and translated templates of reports. Each application for approval of a program revision that adopts the revised CCR must include: A description of how the State intends to provide water systems with technical assistance in meeting the requirement in § 141.53(h)(3) to provide translation assistance in communities with a large proportion of consumers with limited English proficiency. In communities with a large proportion of consumers with limited English proficiency, as determined by the Primacy Agency, the report must contain telephone number, address, or contact information in the appropriate language(s) regarding the importance of the report and either contain information where such consumers may obtain a translated copy of the report or assistance in the appropriate language(s), or the report must be in the appropriate language(s).

B. Recipient and Subrecipient Meaningful Access

1. Proposal

The EPA also proposed a provision in the CCR rule that references requirements in 40 CFR part 7 that are applicable to recipients of the agency's assistance. The EPA proposed to require water systems that are recipients of EPA assistance to provide “meaningful access” to information in the reports to persons with limited English proficiency.

2. Public Comment and the EPA's Response

Several commenters expressed confusion about the application of the proposed requirements in § 141.153(h)(3) and (h)(3)(i) and noted that the rule did not clearly define a water system's obligation to provide “meaningful access” to information in the reports to persons with limited English proficiency. In light of these adverse comments, and the fact that water systems are already obligated to comply with nondiscrimination statutes, the EPA is not finalizing the proposed requirement in the CCR Rule at § 141.153(h)(3)(i). The EPA's decision for the CCR rule under SDWA does not change any obligations that water systems that are recipients or subrecipients of EPA financial assistance already have under title VI to provide language assistance services to persons with limited English proficiency in order to avoid discrimination on the basis of national origin. The EPA, has however, concluded that it would not be appropriate to create an obligation that is enforceable under SDWA.

3. Final Revisions

For the reasons described above, at this time, the EPA is not finalizing a requirement in the CCR Rule at § 141.153(h)(3)(i) to require systems that are a recipient of EPA assistance, as defined in 40 CFR 7.25, to take reasonable steps to provide meaningful access to information in the reports to persons with limited English proficiency who are served by the water system.

C. Language Access Plans

1. Proposal

The EPA also proposed in § 141.155(i) to require systems serving 100,000 or more persons to develop plans for providing meaningful access to the reports for consumers with limited English proficiency, to evaluate the plans annually, and to update as necessary and report with the certification required under § 141.155(c). The proposed rulemaking also required the system to evaluate the languages spoken by consumers with LEP served by the system and the system's anticipated approach to address translation needs.

2. Public Comment and the EPA's Response

Several commenters disagreed with the proposed requirement for systems serving 100,000 or more people to develop a plan for providing meaningful access to consumers with limited English proficiency. One commenter stated that it would be an inefficient use of resources when systems already have established practices to support consumers with LEP. Another commenter noted that although they disagree with requiring a language access plan, they supported limiting the requirement for the plan to large systems serving 100,000 or more people. Other commenters suggested that the requirements for the plan are unclear. The EPA disagrees that requiring systems serving more than 100,000 people to develop a plan is an inefficient use of resources. To clarify that the purpose of the plan is to prepare to assist consumers with LEP, the final rule deletes the phrase “meaningful access” and instead uses the word “assistance.” The form of the assistance is not specified; the purpose of the requirement is for systems to plan for the needs of consumers with LEP that is appropriate for the specific system, not to mandate a particular type of assistance. The plans will be a valuable resource for operators and/or designated CWS staff. The content of the plans must include an evaluation of languages spoken in the community served by the water system. As noted above, in developing the plan, the system could collect EPA language access resources, available points of contact for translation support, and training materials for new staff. Water systems may consider using tools such as the latest census data for the area served, data from school systems, or data from community organizations or from state and local governments to help identify populations with LEP in their service area. The EPA determined that systems serving more than 100,000 persons tend to serve large cities that likely have a diverse population, including consumers with LEP, the makeup of which can change rapidly, and the agency believes it is beneficial for those systems to regularly evaluate the population of consumers with LEP they serve to identify approaches and opportunities for access to translated CCRs. These systems serve almost 50 percent of the population. Several of these larger systems already provide translation resources to their consumers.

3. Final Revisions

The EPA is finalizing the requirement in § 141.155(i) for systems that serve 100,000 or more people to develop a plan for providing assistance to consumers with limited English proficiency. The system must evaluate the languages spoken by persons with limited English proficiency served by the water system, and the system's anticipated approach to address translation needs. Plans must be evaluated annually and updated as necessary and reported with the certification required in § 141.155(c). Systems may use an existing plan if it meets the requirements in § 141.155(i).

V. Consumer Confidence Report Delivery

A. Biannual Delivery

1. Proposal

AWIA section 2008 amended SDWA section 1414(c)(4)(F)(i)(II)) to mandate that the Consumer Confidence Report Rule Revisions require CWSs serving 10,000 or more persons to provide CCRs to customers at least twice per year (biannually). Systems currently are required to provide a CCR to each customer annually by July 1 of each year that contains information and data collected during the previous calendar year. The EPA proposed that systems serving 10,000 or more persons deliver a second CCR by December 31 of each year. Additionally, the EPA also requested comment on the delivery dates proposed in the Consumer Confidence Report Rule Revisions in § 141.155(j).

The EPA specifically requested comment on the timing and feasibility of having water systems deliver the first report sooner in the year, for example by April 1 and deliver the second report by October 1 of each year. The EPA asked for input on whether the deadline to deliver the second report should be three months or six months after delivering the first report, or some other length of time. The EPA requested feedback on alternative approaches for biannual delivery, including if the reports should cover the previous 6 months, rather than provide an annual summary. For systems serving less than 10,000 consumers, the EPA asked if the original delivery deadline (July 1) should remain, or if the CCR delivery deadline should be updated to reflect the first delivery deadline for large systems (serving 10,000 or more people), if revised from July 1.

2. Public Comment and the EPA's Response

The EPA received several comments on the delivery dates and timing of the biannual delivery requirement proposed in § 141.155(j) of the CCR Rule Revisions. For systems serving 10,000 or more persons who will be required to deliver their CCR's biannually, several commenters were in favor of keeping the proposed delivery dates of July 1 for the first report and December 31 for the second report, noting that it will provide water systems with an additional opportunity to communicate important information to consumers on a more frequent basis. One commenter also stated that systems serving 10,000 or more persons typically have no issues with meeting the current timeline for CCR delivery and agree with the EPA's current reporting requirements to deliver the first report by July 1 of each year and the proposed reporting requirements to deliver a second report by December 31. The EPA agrees with commenters that the biannual delivery requirement for systems serving 10,000 or more persons will allow water systems to communicate with consumers more frequently and allow those systems to communicate information about the quality of their water in a timelier manner. By finalizing the requirement that CCRs be delivered biannually, the EPA is ensuring that consumers will have more frequent access to information about the quality of their drinking water, while meeting Congress' intent to provide critical updates on a timelier basis and minimizing the burden by only requiring a subset of community water systems to provide a 6-month update in additional to the annual report.

While many commenters agreed with the EPA's proposed delivery dates of July 1 for the first report and December 31 for the second report for those systems serving 10,000 or more persons, a few commenters felt that the timing of the second report would be confusing to customers. They believed that consumers would be confused with the information appearing in more than one report a because a violation or action level exceedance that occurs during the first six months of the year would be reported to customers in two different CCRs, spaced six months apart, delivered by December 31 in the 6-month update, and again the following year by July 1 in the annual summary. For violations or action level exceedances that occur during the second half of a year, those would only be reported in one CCR delivered by July 1 the following year with the annual summary. Commenters also noted that because systems will also need to provide the PN, customers could become confused with multiple notices for the same violation or lead ALE. While the EPA agrees that receiving a 6-month update that contains either applicable information based on samples collected between January and June of the following year or the original annual report (summarizing January through December of the previous calendar year) may be confusing to consumers at first, systems can use the biannual reports (annual report and 6-month update) as an opportunity to provide an update on the violation or situation, especially if the situation has been resolved. The EPA also has determined that some consumers may not receive an initial notice or report, and therefore overlap in CCR rule and PN rule will support broader awareness. Additionally, the EPA sought comment on whether the deadline to deliver the second report be 3 months or 6 months after delivering the first report, or some other length of time and most commenters agreed with the EPA's proposal to deliver the second report 6 months after the first report.

A few commenters also noted that requiring the delivery of a second CCR could increase the burden for States and CWSs. While the EPA acknowledges that increased burden, the EPA notes that this is a statutory requirement. To reduce burden, the EPA structured the requirement so that water systems could meet the requirement without having to prepare a new report if there are no violations or action level exceedances or UCMR results from a prior year to report in the 6-month update.

3. Final Revisions

As part of this final rule, the EPA will continue to require the first report to be delivered by July 1 of each year and has revised the CCR rule to require that a second CCR must be delivered by December 31 of the same year for systems serving 10,000 or more persons. The report delivered by July 1 must continue to contain information and data collected during the previous calendar year and the second report delivered by December 31 must include a 6-month update, if applicable, based on information and data collected between January 1 and June 30 of the current calendar year. Systems without a violation or an ALE for the six-month period between reports, i.e., information between January and June of the current year, may resend the original annual report (summarizing January through December of the previous calendar year). Systems that have an ALE, a violation, or who receive results for UCMR from the reporting year, must include this information in a 6-month update that accompanies the original annual report.

B. Electronic Delivery

1. Proposal

As part of the CCR Rule Revisions, SDWA section 1414(c)(4)(F)(ii) requires the EPA to “allow delivery consistent with methods described in the memorandum `Safe Drinking Water Act—Consumer Confidence Report Rule Delivery Options' issued by the EPA on January 3, 2013 (USEPA, 2013).” The memorandum includes an attachment entitled “Consumer Confidence Report Electronic Delivery Options and Considerations (USEPA, 2013).” The memorandum interprets the existing rule language “mail or otherwise directly deliver” to allow a variety of forms of delivery of the CCR, including electronic delivery, so long as the CWS is providing the report directly to each customer. The memorandum outlines a framework for what forms of electronic delivery are and are not acceptable under the original Consumer Confidence Report Rule. In § 141.155(a) of this rule, consistent with the statute, the 2013 Safe Drinking Water Act—Consumer Confidence Report Rule Delivery Options, and current practices, the EPA is including options that allow CWSs to use electronic CCR delivery, with an option for customers to request a paper CCR.

Additionally, in the House Report accompanying AWIA, the Committee on Energy and Commerce noted that Americans are increasingly moving away from a paper-driven society and instead relying on electronic technologies to access data, including real-time information; however, they also recognized that “not all persons have access to or are comfortable using these means and [intend] that this new option not be used as an opportunity to avoid making paper copies available to those customers that want them.” H.R. Rep. No. 115-380, at 27 (2017). Accordingly, the EPA proposed that systems using electronic delivery methods in § 141.155(a)(1)(ii) and (iii) must provide a paper copy of the report to any customer upon request. Consistent with the 2013 delivery options memo, the EPA also proposed that systems may mail a paper copy of the report; mail a notification that the report is available on a website via a direct link; or email a direct link or electronic version of the report.

The proposed rulemaking also incorporated the NDWAC's recommendation to require systems that deliver the report by mailing a notification combined with posting their CCR on a publicly accessible website to maintain the report on the website for three years following its issuance in § 141.155(a)(4). This is consistent with existing record keeping requirements for CWSs in § 141.155(h).

2. Public Comment and the EPA's Response

While many commenters support allowing for electronic delivery requirements as outlined in the EPA's 2013 memorandum, many commenters feel that limiting electronic delivery options to those identified in the memorandum fails to take advantage of changing technology and could unnecessarily limit innovation. Commenters also point out that the ways customers expect to be able to access information has changed since the CCR rule was initially promulgated in 1998, and even since the 2013 electronic delivery memorandum was issued. They note that the EPA's proposed revisions fail to properly take these advances into consideration by allowing for only a static electronic version of a printed CCR online. Commenters suggest that the EPA should allow for additional flexibility in how CCRs are currently delivered and how they could be delivered in the future by allowing primacy agencies to approve other methods of direct delivery in writing. The EPA agrees that new forms of technology which can provide additional electronic delivery flexibility may become available in the future, such as by a phone application; therefore, the EPA has finalized requirements that will allow systems the flexibility to implement additional direct delivery methods, if approved in writing by the primacy agency.

AWIA directed the EPA to allow electronic delivery methods consistent with the 2013 memorandum, and the options for electronic delivery in the final rule are consistent with the memo. Since issuing the 2013 delivery options memo, the EPA has found through implementation experience that systems most often use the electronic delivery option by including a notice of availability of the report along with the website address that provides a direct link to the report either in the customer's bill, or in a separate notice, such as a post card mailed to the customer, to meet the requirement that the CCR be directly delivered if it is not mailed to the customer. The EPA received a few comments on the references in § 141.155(a)(1)(ii) and (iii) to a “direct link” in the proposed revisions to delivery requirements. These provisions allow systems to mail a notification that the report is available on a webiste via a “direct link” or email a “direct link” or electronic version of the report. The requirement to provide a “direct link” (sometimes refered to as “one click”) was originally included in the 2013 memorandum as an interpretation of the “otherwise directly deliver” provision in the 1998 CCR rule. Commenters argued that by incorporating the “direct link” in the revised CCR rule, it stifles innovation in providing information and engaging customers because the rule does not allow any navigation away from the required CCR content. Commenters mentioned that by changing the rule to remove the “direct link” requirement, the CCR could be published as a dynamic, interactive, flexible, and adaptive experience where customers can explore data while interacting with information. The EPA diagrees with the commenters suggestion that the “direct link” provisions are a barrier to how customers enage with the information in the CCR, because the “direct link” provisions allow customers to easily find and view their CCR. Moreover, the requierment is consistent with the statutory direction in SDWA 1414(c)(4)(F)(ii) to “allow delivery . . . by methods consistent with methods described in” the 2013 memorandum. Systems could choose to supplement the direct link to the CCR with links to additional information, or use other “dynamic” or “interactive” features, consistent with § 141.153(h)(5). The systems would still be required to provide paper copies upon request, as indicated in § 141.155(a)(2). Also, the EPA does not exclude systems from establishing a landing page that contains “direct links” to CCRs, along with other information and links that allow customers to interact with the portions of the CCR most relevant to them.

A few commenters also stated that where systems solely rely on electronic delivery methods, customers in underserved communities, including those without consistent internet access, may not receive the report. They suggested that the EPA consider other accessibility options for areas and customers without stable internet or computer access, noting that nearly one in four U.S. households lacks home internet. They also state that newly developed CCR resources should be compatible for mobile phone access to increase access to CCRs. The EPA agrees that electronic delivery may not be right for every customer, particularly those customers who live in communities without consistent and reliable internet or access to computers; however, these challenges have been addressed by allowing customers to request a paper copy of their CCR. The EPA is requiring that systems using electronic delivery methods described in § 141.155(a)(1)(ii) and (iii) must provide a paper copy of the report to any customer upon request. See section V.E. of this preamble for revisions to the “good faith” delivery provisions in this final rule to encourage at least one form of non-electronic delivery where a system is aware of a substantial number of bill-paying consumers without access to electronic forms of the report.

3. Final Revisions

The final rule allows CWSs to use electronic CCR delivery methods consistent with the 2013 delivery options memo if they provide a paper copy of their CCR to any customer upon request. For systems that electronically deliver the reports by posting the report to a website and providing a notification either by mail or email, the report must be publicly available on the website at the time notification is made. These requirements are consistent with the requirements of SDWA section 1414(c)(4)(F)(ii), as amended by AWIA, and require systems to mail a notification that the report is available on a website via a direct link; email a direct link or electronic version of the report; or mail a paper copy of the report if requested by the customer. The EPA also added in § 141.155(a)(iv) the clause “Another direct delivery method approved in writing by the primacy agency” to allow primacy agencies to approve additional direct delivery methods.

C. Posting Online

1. Proposal

Currently, § 141.155(f) of the existing rule requires CWSs that serve 100,000 or more persons to post their current year's CCR on a publicly accessible site on the internet. In the proposed revisions to the CCR rule, the EPA requested comments on whether to lower the threshold of system size subject to this requirement to post their CCR on the internet in § 141.155(f), specifically systems that serve 75,000 or more customers, 50,000 or more customers, or a different threshold. The EPA also requested input on what challenges this requirement may pose to PWSs serving fewer than 100,000 persons.

2. Public Comment and the EPA's Response

Of the comments received on the topic for lowering the threshold of system size required to post CCRs online, most were supportive of the revision. Of the commenters in support of reducing the threshold, most favor applying the requirement to systems that serve 50,000 or more people, with several commenters noting that many systems of that size are already posting CCRs online. A couple of commenters recommended the threshold be lowered to systems serving 10,000 or more persons, with commenters noting that lowering the threshold of systems who are required to post their CCRs on the internet would help to increase accessibility and make it easier for people to find their report online. However, a couple of commenters cautioned against reducing the threshold below the existing one (systems serving more than 100,000) due to concerns that it will cause an increase in resource demands for systems and primacy agencies and that small community systems may not have a website or dedicated personnel responsible for updating and maintaining it and could incur the burden to pay for a third party to maintain a website.

The EPA agrees with commenters that reducing the threshold below the existing one will improve accessibility for consumers served by those systems. The EPA also agrees that the potential burden for systems serving fewer than 100,000 persons could be significant, particularly for those systems who do not currently post their CCR online and could incur substantial costs to do so; however, several commenters have stated that it should be feasible for systems serving 50,000 or more persons to post their CCR's online with minimal burden since many of those same systems are already posting their CCR's online. Based on the comments received and the increased access customers would have to CCRs, the EPA agrees that requiring those systems to post their CCRs online is achievable. Also, because systems serving 50,000 or more persons will be required to make their lead service line inventory publicly accessible online under the LCRR (USEPA, 2021c), some portion of those systems will already be posting information online and thus will likely not incur a substantial burden when posting their CCRs online.

3. Final Revisions

This final rule requires each system serving 50,000 or more to post its current year's report to a publicly accessible site on the internet. These revisions will strengthen the public accessibility to information in CCRs. The existing CCR rule requirement for systems serving 100,000 or more people to post the CCR report on a publicly accessible site on the internet was promulgated almost 20 years ago when access to free or low-cost social media, web hosting services, and filesharing platforms that water systems can use to host their inventories online were not as widely available as they are today. The EPA selected 50,000 or more persons as the threshold for this revised requirement because it will allow more customers nationwide to access CCRs online and is feasible since most of these systems already display CCR information on their websites.

D. Delivery Certification

1. Proposal

The EPA proposed to revise the requirement in § 141.155(c) for systems to mail a copy of the report to the primacy agency to instead “provide” a copy. In addition, the EPA requested comments on potential revisions to the timing for CWSs to send certifications of delivery of the CCR to their primacy agencies, in accordance with in § 141.155(c). The existing CCR rule requires water systems to mail a copy of the report to the primacy agency, followed within three months by a certification that the report has been distributed to customers and that the information is correct and consistent with the compliance monitoring data previously submitted to the primacy agency. The EPA specifically sought comment on benefits or challenges for water systems if they would be required to certify delivery of the CCR at the same time they distribute it to customers. In addition, the EPA asked for input on requiring systems to provide the delivery certification within 10 days or 30 days of delivery or if there are additional delivery certification dates the EPA should consider.

2. Public Comment and the EPA's Response

The EPA received many comments on the timing for sending the primacy agency delivery certification. A couple of the commenters opposed changing the existing time period of 3 months for systems to send the delivery certification to the primacy agencies, noting that having 3 months is an appropriate amount of time for water systems to certify delivery, with consideration for other priorities and responsibilities that must be addressed by the system. Several commenters supported changing the delivery certification timing to improve system compliance and record keeping for primacy agencies because a longer interval between the deadline for distribution and certification increases the likelihood of a water system forgeting to submit their delivery certfication to the primacy agency, resulting in a violation. One commenter also stated that the current requirement to issue CCRs by July 1 but not provide a certification of delivery until October 1 often results in a delay of documents submitted to the State and a missed opportunity to promptly correct system errors. A couple of commenters responded that systems should be able to meet the shorter delivery certification time because some systems are already submitting CCR delivery certification earlier than October 1, with one commenter noting that their department requires that CCR delivery certification be delivered by July 1, and another commenter stating that in their experience, most systems provide certifications to primacy States within 30 days of delivery.

The EPA agrees that shortening the delivery certification timeframe may take systems some time to get accustomed to; however, the EPA disagrees a shorter certification timeframe would pull resources away from preparing and delivering the CCRs. Additionally, many comenters also told the EPA that it would be feasible to submit delivery notification within a shorter timeframe and also stated that doing so could help increase compliance with the regulations by prompting systems to submit their certifications before they forget to do so. The EPA agrees that shortening the timeline for systems to send the delivery certification to the primacy agency will decrease the likelihood that systems forget to submit their delivery certification. Certification of delivery plays an important role in the EPA's and primacy agency's oversight and enforcement by making it easier to ascertain compliance with the CCR rule requirements and allow primacy agencies to better target noncompliers. The EPA has determined that by shortening the certification deadline to a 10-day timeline, it will allow primacy agencies to track compliance more quickly, and follow-up with systems to resolve a violation, in order to ensure the public is effectively informed about their local drinking water.

While several comments supported shortening the timing for providing the certification, the EPA received mixed feedback on how much to shorten the deadline (e.g., 10 days, 30 days, or simultaneous with the deadline for CCR distribution to customers). A few commenters supported shortening the time period to 10 days, consistent with other reporting timelines to primacy agencies in § 141.31, including PN delivery certification. Some commenters preferred a requirement for systems to provide the certification at the same time they send primacy agencies a copy of the CCR report—i.e., no later than the date the system is required to distribute the report. Some commenters noted that some primacy agencies already require water systems to submit delivery certifications with a copy of the CCR. On the other hand, one commenter noted that having a certification deadline that coincides with the delivery deadline to customers is not feasible.

The EPA agrees that there are feasibility concerns with a certification deadline that coincides with the delivery deadline to customers. The EPA agrees that the 10-day time frame for PN certification is an appropriate benchmark to use for establishing the timeline for CCR certification. In addition, reducing the time between CCRs delivery and certification from 3 months to 10 days will help primacy agencies identify more quickly which systems potentially did not comply with the delivery requirements or inaccurate compliance monitoring data in the CCRs in order to address the non-compliance as soon as possible.

3. Final Revisions

The final rule revises § 141.155(c) to reduce the timeline from three months to no later than 10 days after the date the system is required to distribute the report to its customers, that systems will need to provide a certification to their primacy agency indicating that the report was distributed to customers and the information is correct and consistent with the compliance monitoring data submitted to the primacy agency.

E. Good Faith Delivery

1. Proposal

Current regulations require that PWSs make a good faith effort to provide the CCR to non-bill paying consumers served by the system in § 141.155(b). Non-bill paying consumers include renters, like people who live in apartment buildings, and other users of the water system who do not receive a bill and therefore do not get direct delivery of the CCR. The proposed rule incorporated NDWAC's recommendations to expand examples of “good faith” delivery to help update and clarify approved distribution methods to reach non-bill paying consumers in § 144.155(b). The following “good faith” delivery examples provide more modern outreach approaches that were not available or as widely used when the original rule was promulgated. The NDWAC recommendations included mailing postcards to service addresses and/or postal addresses, holding public forums, sending alert text messages with a link to the CCR to interested consumers, advertising the availability on social media, and using a “Quick Response” code, also known as a QR code, or equivalent in posting materials. A QR code is a type of bar code that may be read by an imaging device such as a smart phone's camera. The EPA specifically sought input on whether the CCR rule should include additional outreach requirements to enhance awareness for non-bill paying consumers or a requirement for water systems to post information on social media or online list-serves to increase consumer awareness of and access to CCRs.

2. Public Comment and the EPA's Response

The majority of commenters support the EPA's expanded list of additional examples of good faith delivery methods in § 144.155(b), which include more modern outreach efforts, such postcards, social media, public forums, and other good faith efforts to inform non-bill paying consumers about the availability of water quality reports. One commenter suggested adding delivery of reports by carrier route to the list of examples of good-faith delivery methods. The commenter states that they have been using this method since 1998 and appreciates the confidence of knowing that the information about the water quality reports is being delivered to both bill-paying and non-bill paying consumers along the route. Many commenters specifically supported allowing water systems to use social media as an expanded form of good faith delivery because it is a very common, popular, and simple way to reach consumers, noting that it would increase consumers awareness of and access to CCRs. While one commenter said that the EPA's current options for reaching non-bill paying consumers are sufficient, the EPA should not discount the use of social media as a good faith delivery method and a way to increase consumer awareness as it is a popular way for people to receive information. A couple of commenters also suggested that the EPA consider including a “reverse 911” or other mass communication susbscription services, such as listservs, as additional expanded methods of good faith delivery.

The EPA agrees that expanding examples of good faith delivery efforts in § 141.155(b) will help increase accessibility to water quality reports among non-bill paying consumers. By providing water systems with expanded examples of good faith delivery methods, the EPA is giving these systems the flexibility to customize their good faith delivery efforts so they can better reach non-bill paying consumers at single billed addresses such as apartments, some manufactured housing communities, and businesses that are not bill paying customers.

Commenters also noted that non-electronic delivery methods should be considered as an additional delivery option for consumers who may not have stable access to a computer or the internet and therefore would have trouble accessing electronic water quality reports. Commenters also note that in rural areas, nearly one-fourth of the population—14.5 million people—lack any opportunity to access to broadband service. The EPA agrees that non-bill paying consumers at addresses with a single meter, such as multi-family apartments, some manufactured housing communities and those in rural areas may be less likely to receive CCRs due to a lack of internet or because the CWS may not have their address in their records. The EPA has included in the final rule additional recommendations in § 144.155(b) for systems to pay particular attention to consumers that are non-bill paying and may have challenges with accessing the CCR when electronic delivery methods are used. The provision states “where a system is aware that it serves a substantial number of non-bill paying consumers, the system is encouraged to directly deliver the reports or notices of availability of the reports to service addresses. Where a system is aware of a substantial number of bill-paying consumers without access to electronic forms of the report, the system should use one non-electronic form.” While several commenters support the EPA's addition of expanded good faith delivery methods, several commenters also stated that systems should be encouraged, but not required, to post their CCRs on social media and/or other online services such as list-serves using resources that are routinely available and reasonably achievable. Commenters stated that mandatory requirements related to good faith delivery, such as mailing postcards, would undercut the environmental and economic savings that have been realized through electronic delivery and small and/or rural water systems may not have the capacity to meet a requirement to post their CCRs on social media and/or other online services such as list-serves. A couple of commenters also stated that any efforts to reach non-bill paying customers should be at the discretion of the utility to customize delivery in a way that works for their customers. They stated that a uniform requirement for delivery to ensure non-bill paying customers receive the report would put unnecessary burdens on those systems who already have a process in place by potentially requiring those systems to adapt their current process to any new requirements. A couple of commenters claimed that mailing post cards with QR codes to apartments may not be feasible due to lack of addresses and may not be effective because the QR codes require the extra step of scanning a QR code and/or logging online for the full report. However, a couple of commenters stated that the EPA should emphasize direct delivery to single billed addresses serving multiple people such as apartments, manufactured home communities and require bulk delivery of the report to every address in the service area or, at minimum, require CWS to send a post card to every address in their service area with a QR code and website link for the report along with a stamped return card for requesting a hard copy. Another commenter noted that under the existing delivery requirments, CCRs are not being adequately delivered to all consumers (i.e., renters, condo owners, residents of nursing homes, etc.), which the commenter claims is a serious and widespread problem. They specifically noted that the existing requirements for systems to make a “good faith effort” to reach non-bill paying consumers is an abject failure, because renters, condo owners, and residents of group facilities such as nursing homes rarely, if ever, see these reports.

The EPA has determined that a requirement to mail non-bill paying consumers either the report or a post card notifying them that the report is available, would signficantly increase delivery costs. Also, because water systems and utilities that serve their local communities have the knowledge and understanding of which delivery methods would work best for their communities, the EPA agrees that any good-faith delivery methods from the expanded list in § 144.155(b) used to reach non-bill paying consumers should be at the discretion of the utility. In addition, it would be anomolous for the CCR rule to allow water sytems to forego direct delivery of hard copy CCRs or postcards to bill paying customers, as allowed under 2013 CCR delivery options memo and the AWIA amendments to SDWA while at the same time imposing a new requirement for water systems to directly deliver paper copies of the CCR or postcards notifying consumers of the availability of the CCR.

3. Final Revisions

In this final rule, the EPA added the following examples of “good faith” delivery methods to § 144.155(b) for reaching non-bill paying consumers: mailing reports or postcards with a link to the report to all service addresses and/or postal customers; using an opt-in notification system to send emails and/or texts with a link to the report to interested consumers; advertising the availability of the report on social media; publication in newsletters, posting a copy of the report or notice of availability with links (or equivalent, such as Quick Response (QR) codes) in public places; and holding a public meeting to educate consumers on the reports. Systems must make a good faith effort to reach consumers who do not get water bills, using means recommended by the primacy agency. A good faith effort to reach consumers includes a mix of methods to reach the broadest possible range of persons served by the water system. The final rule also includes additional recommendations in § 144.155(b) for systems to pay particular attention to consumers that are non-bill paying and may have challenges with accessing the CCR when electronic delivery methods are used. The provision states “where a system is aware that it serves a substantial number of non-bill paying consumers, the system is encouraged to directly deliver the reports or notices of availability of the reports to service addresses. Where a system is aware of a substantial number of bill-paying consumers without access to electronic forms of the report, the system should use at least one non-electronic form.”

VI. Compliance Monitoring Data

A. CMD Reporting Requirement

1. Proposal

The EPA proposed a new regulatory requirement in § 142.15 pursuant to sections 1445(a)(1)(A) and 1413(a)(3) of SDWA for states to report CMD from PWS annually to the EPA for all NPDWRs.

2. Public Comment and the EPA's Response

The EPA received many comments requesting that the EPA propose CMD reporting requirements under a separate regulatory action based on three major concerns. Commenters claimed that (1) CMD reporting requirements are unrelated to the CCR Rule revisions; (2) a separate rulemaking would allow the EPA to better explain its rationale for CMD reporting requirements and the EPA's intended uses of the data; and (3) combining the CMD reporting requirements with the CCR Rule revisions may result in relevant and interested stakeholders not being aware of the EPA's proposed new reporting requirements.

The EPA disagrees that revising state annual reporting requirements to include CMD is unrelated to the CCR Rule revisions. In implementing the Foundations for Evidence-Based Policymaking Act of 2018 (2018 Evidence Act), the EPA identified as an initial focus area the importance of data quality and reliability when determining compliance with drinking water standards. The GAO raised similar concerns and concluded that unreliable data from States were limiting the EPA's ability to target enforcement priorities and communicate PWSs performance (USGAO, 2011). GAO also concluded that the EPA should ensure not only corrective action milestones, and violations, but also water systems' test results, i.e., CMD, are current, accurate, and complete (USGAO, 2006). AWIA amended SDWA section 1414—Enforcement of Drinking Water Regulations with provisions to improve information on drinking water. Section 2008 of AWIA amended SDWA section 1414(c)(4) on Consumer Confidence Reports and section 2011 of AWIA created a new SDWA section 1414(j)—Improved Accuracy and Availability of Compliance Monitoring Data. This final rule improves the accuracy and availability of drinking water data that the agency and the public receive to make informed decisions and protect public health. In addition, there is no statutory or regulatory requirement to revise only one rule at a time, or to publish each rule in separate Federal Register publications. The EPA often revises multiple drinking water rules at the same time. For example, when promulgating or revising a NPDWR for inclusion in 40 CFR part 141, the EPA often revises the CCR rule in 40 CFR 141, subpart O and the Public Notification Rule in 40 CFR part 141, subpart Q, as well as the primacy requirements in 40 CFR part 142.

The EPA also disagrees that a separate rulemaking is necessary for the EPA to explain its rationale and intended uses of CMD. The EPA has described the rationale for the CMD reporting requirement (see section I.E. of this preamble), the statutory basis for this regulatory action (see section I.C. of this preamble), the agency's intended uses for the data (see section I.E. of this preamble) and complied with all applicable statutory requirements for this rule. The EPA notes that some commenters requested that the CMD reporting requirement be a separate rulemaking due to concerns that there was insufficient discussion regarding the scope of the proposed provision, which stated that the reporting requirement applied to both monitoring and related data as well as records under § 142.14. The EPA has considered these comments and amended the scope of the final reporting requirement after reassessing what data the agency requires for oversight in addition to the data reporting and management capabilities of the EPA and primacy agencies accordingly (see section II.B. of this preamble). The EPA is also developing tools to facilitate the transmittal of CMD to the EPA for both States that use SDWIS State and those that rely on State-specific data management systems.

Lastly, the EPA disagrees with some commenters' concerns that combining the CMD requirements with the CCR rule revisions may have resulted in relevant and interested stakeholders not being aware that the proposed CMD reporting requirement was included in the same Federal Register publication. Prior to issuing the notice of proposed rulemaking in the Federal Register, the EPA conducted a federalism consultation as well as a supplemental Tribal consultation with the Navajo Nation, the only Tribe with primary enforcement responsibilities (see sections II.D and X.E of this preamble), and specifically requested input on considerations regarding the proposed CMD reporting requirement. The EPA considered both the comments received during the consultations as well as public comments received on the proposed rulemaking in developing the final rule.

3. Final Revisions

As a part of this final rule, the EPA is finalizing a requirement in § 142.15 for States with primacy to report CMD for all NPDWRs to the EPA on an annual basis. “CMD for all NPDWRs” refers to CMD for all NPDWRs for which the State receives data during the reporting time period. This provision will not require any additional data collection by water systems or States and does not change existing reporting relationships between PWSs, laboratories, and States.

B. Scope and Administrative Burden of CMD Reporting

1. Proposal

The EPA proposed that States would be required to report both CMD and related data including specified records kept by the State in § 142.14.

2. Public Comment and the EPA's Response

Several commenters expressed concern about the administrative and financial burden that the proposed reporting requirement would entail. Most commenters were concerned about the burden associated with reporting specified records kept by the State in § 142.14 to the EPA. Several commenters expressed concern that the reporting requirement would increase the burden on the States if the EPA used the CMD to second-guess State decisions by necessitating additional staff resources to resolve or defend compliance determinations. Several commenters were concerned about the burden for both SDWIS-using and non-SDWIS-using States to transmit their data to the EPA.

Many commenters expressed concern about the proposed scope of CMD reported annually to the EPA, as well as “data necessary for determining compliance.” The proposed rule also provided that “related compliance data include specified records kept by the State in § 142.14.” Commenters noted that specified records kept by the States under § 142.14 comprise nearly 120 different documents specific to each PWS that cannot be readily digitized and stored in the EPA and/or State databases. Commenters raised concerns over the administrative burden associated with collating, digitizing, and transmitting these documents to the EPA as well as the EPA's intentions for collecting these documents.

The EPA carefully considered comments regarding State burden associated with annual submission of records kept by States under § 142.14. The EPA has also re-evaluated its own technical and administrative capacity to collect, manage and use this volume of records. Based on these considerations, the EPA has elected to remove the annual reporting of “specified records kept by the State under § 142.14” from this final rule. Instead, the EPA will continue to request certain case-specific records from case-specific States on an as-needed basis using its existing authority under § 142.14(g).

Many commenters expressed concern about the burden of reporting CMD to the EPA on an annual basis. The EPA disagrees that this reporting requirement will be unduly burdensome for the States. For States currently using or in the process of transitioning to SDWIS State, the EPA is developing a SDWIS State Annual Compliance Monitoring Data Reporting Extraction Tool that will create a copy of the CMD from the State's Microsoft SQL or Oracle database to submit directly to the EPA. This tool builds off the EPA's existing SDWIS Data Extraction Tool that 42 states currently use to share a limited subset of CMD with the EPA for the Six-year Review of Drinking Water Standards. The SDWIS Annual Data Extraction Tool is intended to automate the data transfer process, leveraging the suite of data quality checks and reviews built into the SDWIS State software and submission to the EPA processes. Some commenters noted that not every State with primacy uses SDWIS State to maintain and track compliance of PWSs and thus that this new reporting requirement will impose an undue burden on these States. For States that do not use SDWIS State, the EPA intends to develop a process to allow for these States to submit a full extraction of their CMD database to the EPA, along with documentation that defines the data elements in their database. The EPA is currently in the process of developing the DW-SFTIES as the long-term replacement for SDWIS State. DW-SFTIES will include an automated data extraction and reporting feature. These processes, along with the reduction in scope of CMD to be submitted to the EPA, will minimize the burden that this reporting requirement will impose on the States.

3. Final Revisions

In this final rule, the EPA is requiring States to report “compliance monitoring data and related monitoring data necessary for determining compliance for all NPDWRs in 40 CFR part 141.” “Compliance monitoring data” comprises all sample results that PWSs are already required to collect and report to primacy agencies for purposes of determining compliance with NPDWRs, including MCL, MRDL, and treatment technique (TT) requirements. Related monitoring data are information about each sample result that must be reported to the primacy agency for compliance determination, including data to ensure that the correct number of samples were taken at the right time, in the correct locations, and were analyzed using an approved analytical method.

VII. Other Revisions

A. Housekeeping

1. Proposal

Included in the proposed revisions of the Consumer Confidence Report Rule, the EPA identified minor technical corrections within sections of 40 CFR part 141, subpart O, as described in this section:

40 CFR 141.152 Effective dates: The EPA proposed revisions to language in CFR 141.152 Effective dates, by removing compliance dates which have passed or are no longer applicable.

40 CFR 141.153 Content of the reports: The EPA proposed revisions to language in CFR 141.153 Content of the reports, by removing regulatory text that has been superseded by new or existing regulations and removing compliance dates which have passed or are no longer applicable.

40 CFR 141.154 Required additional health information: The EPA proposed revisions to language in CFR 141.154 Required additional health information, by removing regulatory text that has been superseded by new or existing regulations and removing compliance dates which have passed or are no longer applicable.

2. Public Comment and the EPA's Response

The EPA received a few comments on suggested edits to the existing CCR rule related to housekeeping revisions. One commenter identified § 141.154(e) for removal because it includes an outdated reference to § 141.12, which no longer exists in the CFR. The EPA agrees with the suggestion to remove § 141.154(e), as indicated in amendatory instructions in the proposed rule (88 FR 20092 at 20113, April 5, 2023). A couple of the commenters recommended the EPA remove the reference to the Safe Drinking Water Hotline. The EPA disagrees with removing the hotline because SDWA section 1414(c)(4)(A) requires that the regulations provide for a “toll-free hotline that consumers can call for more information and explanation.” The EPA has included additional options for contacting the agency though the website epa.gov/safewater.

3. Final Revisions

The EPA is finalizing minor technical corrections within sections of 40 CFR part 141, subpart O as proposed. The minor technical corrections will ensure consistency between the Consumer Confidence Report Rule Revisions and existing the EPA drinking water regulations by removing the out-of-date and no longer applicable text from the regulations. The EPA is not creating any new obligations with these technical corrections in §§ 141.152, 141.153, and 141.154, that included moving compliance dates which have passed or are no longer applicable and removing regulatory text that has been superseded by new or existing regulations. The EPA is adding a conforming edit to remove § 141.153(d)(3)(ii), consistent with removing § 141.153(d)(1)(iii) that was included in the proposed revisions to the rule. Both §§ 141.153(d)(1)(iii) and 141.153(d)(3)(ii) reference §§ 141.142 and 141.143, which have been removed from 40 CFR part 141.

Rather than delete the Safe Drinking Water hotline in the regulation text, the EPA has made editorial modifications to §§ 141.153(e)(3), 141.153(h)(1)(iv), and 141.154(a), to add the agency's website, epa.gov/safewater, to provide CCR readers to an alternate option for contacting the EPA.

In addition, the EPA is making conforming edits to 40 CFR part 141, subpart O, appendix A to remove the table notes “† Until March 31, 2016;” “‡ Beginning April 1, 2016;” and “ ¹ These arsenic values are effective January 23, 2006. Until then, the MCL is 0.05 mg/L and there is no MCLG.” For consistency, the table entries for “Total Coliform Bacteria †” and “Fecal coliform and E. coli †” have been deleted, and the “Total Coliform Bacteria ‡,” “E. coli ‡” and “Arsenic (ppb)” have been edited to remove the symbols and note. The EPA has determined that these footnotes and entries are outdated, and no longer effective, and is deleting or editing them as described to reduce potential confusion for States and water systems.

VIII. Rule Implementation and Enforcement

A. Compliance Date

1. Proposal

The EPA proposed compliance with the CCR Rule Revisions beginning approximately one year after the expected publication date of the rule, with CWSs complying with the new CCR content and delivery requirements in §§ 141.151 through 141.156 beginning April 1, 2025. The EPA specifically requested comment on the feasibility for systems and States with primary enforcement responsibility to implement the revised CCR Rule by the proposed compliance date in 2025. The EPA requested comment on whether the agency should consider revising the compliance dates in § 141.152(a) to require compliance two years after publication of the final rule for CWSs in States with primacy, or on the date the State-adopted rule becomes effective, whichever comes first while retaining a 2025 date for water systems where the EPA directly implements the program.

The EPA proposed that the requirement for States to report CMD to the EPA annually take effect in the CFR 30 days after publication of the final rule in the Federal Register in 2024 and that States would be required to comply with requirements for annual CMD reporting to the EPA beginning one year after the effective date in 2025.

2. Public Comment and the EPA's Response

A couple of commenters supported the proposed 2025 compliance timeline for CWSs to comply with the CCR requirements while several other commenters supported a compliance deadline two years from promulgation for CWSs in States with primacy; however, many commenters suggested an alternate compliance timeline of three years to be consistent with compliance timeline of NPDWRs promulgated under SDWA section 1412. The commenters identified needing additional time for systems to comply with the revised CCR requirements to adapt their report development and distribution process. Commenters highlighted that the proposed compliance date in 2025 is before the allowed timeframe for States to submit request for primacy enforcement responsibility in § 142.12(b). The commenters cited States needing additional time to update their regulations, conduct appropriate training, develop guidance, update business processes, update data management systems, and adopt translation assistance efforts. Several commenters highlighted that there are more than one concurrent drinking water rulemakings that will likely have overlapping new or revised CCR requirements. The commenters mentioned that States have limited resources, and they anticipate it will require significant resources to prepare for implementation, including developing training and guidance, for multiple simultaneous new or revised rules. Several commenters also recommended that compliance with revised CCR requirements should begin at the beginning of the compliance cycle (i.e., January 1), rather than April 1, as proposed. They noted a compliance date such as the proposed compliance date of April 1 could cause confusion for systems and States as to which set of CCR rule requirements would apply (original or revised) for reports delivered before April 1.

The EPA agrees with commenters' concerns regarding the benefit of allowing additional time for systems and States to comply with the final revised CCR Rule requirements. Under the proposed compliance timeline of 2025, there is potential for confusion among States and systems in identifying how to comply with both the existing State CCR rules, which are based on the current CCR, or the revisions that would be applicable under the Federal CCR prior to State adoption of revised CCR regulations, which typically takes at least two years. The EPA also recognizes the challenges States and systems will likely encounter with implementing several new or revised regulations, including the Per- and Polyfluoroalkyl Substances (PFAS) NPDWR, the LCRR, and the LCRI. In anticipation of new or revised rule requirements, the EPA assumes States will likely need to update their data systems, train staff, and conduct outreach and training of water systems to educate them on new requirements prior to compliance of the revised CCR rule compliance date (USEPA, 2024a). There will be additional upfront activities that will be needed to comply with the PFAS and LCRI rulemakings, and some States may find it more effective to combine similar activities, such as trainings, for more than one of the new or revised rules. Therefore, in response to comments, the EPA is finalizing a compliance date for systems of January 1, 2027. At that time, CWSs would be required to meet the revised CCR rule requirements, meaning that reports delivered in 2027, which summarize data collected in 2026, or earlier, will reflect this final rule.

The EPA's requirements for primacy include the requirement that the State have authority to require community water systems to provide CCRs (§ 142.10(b)(6)(vii)). Each State, Tribe, or territory with primacy must submit complete and final requests for the EPA approval of program revisions to adopt the revised CCR no later than two years after promulgation of this rule. Primacy agencies may request an extension of up to two years in certain circumstances under § 142.12.

Several commenters requested that the EPA delay the requirement for States to submit CMD to the EPA beyond the proposed timeline of 2025 but did not provide a specific alternate timeline. The commenters expressed concerns regarding the agency's readiness to collect, manage, process, and use CMD by 2025. They also noted one year is insufficient for States to develop the capacity to fulfill the requirement to provide CMD. One commenter requested the EPA not delay the compliance timeline. Lastly, a few commenters recommended the compliance timeline for collecting CMD be delayed until the EPA updates its database system, including incorporation into DW-SFTIES that is under development.

The EPA agrees with commenters' concerns that States need additional time to develop capacity to submit CMD to the EPA. This extra time can be used to update State data systems to submit CMD to the EPA on an annual basis. Therefore, the EPA is finalizing a compliance date of May 24, 2027. The EPA also agrees the agency will benefit from additional time to update data systems, develop extraction tools, and to provide guidance to support implementation. The EPA intends to engage stakeholders to identify best practices for publicly displaying CMD following the promulgation of the final rule. The EPA disagrees with comments recommending reporting of CMD be delayed until DW-SFTIES is complete since that delay is unnecessary: prior to the compliance date, the EPA will modify SDWIS FED to maintain the collected CMD and will provide an enhanced CMD extraction and sharing tool for primacy agencies that use the SDWIS State. Additionally, the EPA will provide a database extraction option for the primacy agencies that do not use SDWIS State.

3. Final Revisions

In response to comments, the EPA is finalizing a compliance date of January 1, 2027, for the revised CCR rule. This means that reports delivered in 2027 will need to meet the requirements in this final rule. To reflect this change, the EPA has modified § 141.152(a) to reflect the revised compliance dates for all CWSs to develop and provide CCRs to their customers according to the revised requirements in subpart O.

To address the challenges and concerns by commenters regarding the need for additional time for States and the EPA to prepare for the new requirement to collect CMD, the final rule provides that compliance with the CMD requirement will be required no earlier than May 24, 2027. This means that States will be required to report CMD to the EPA annually, on a specific schedule and in a format as prescribed by the Administrator, no earlier than three years after the promulgation of this final rule.

B. Special Primacy

1. Proposal

As previously discussed in section IV. A. of this preamble, the EPA proposed requiring States with primacy to provide meaningful access to CCRs for consumers with LEP. Primacy agencies would also be required to maintain copies of translation support plans they receive from systems serving 100,000 or more people for 5 years (§ 142.14(h)(2)). In addition, even though the mailing waiver is not a new requirement, the EPA proposed that States submit with their primacy application a description of how the State implements the provisions in § 141.155(g), along with a description of how the State intends to provide water systems with technical assistance in meeting the requirements in § 141.153(h)(3) to provide translation assistance in communities with a large proportion of consumers with limited English proficiency (§ 142.16(f)(5)).

As discussed in section VI of this preamble, the EPA also proposed requiring that States, territories, and Tribes with primacy over PWSs submit CMD collected from the PWSs as a condition of primacy. The EPA proposed revisions to the primacy requirements for annual reporting to the EPA by States (§ 142.15) to include all monitoring and related data necessary for determining compliance with existing NPDWRs as required by 40 CFR part 141 to be reported by a water system to the State to demonstrate compliance with NPDWRs.

2. Public Comment and the EPA's Response

Section IV.A.2. of this preamble discussed the EPA's response to comments on translation support requirements by States and systems. A few commenters requested clariﬁcation on the roles and responsibilities for water systems and the State for providing translated reports and translation assistance, and suggested that the regulation should include eligibility criteria to make clear when the State would be responsible for translation services instead of a system, since the proposed regulation would have required, as a condition of primacy, that the State provide translation support services when a system is unable to provide those services. The EPA did not receive comment on the recordkeeping requirements to maintain copies of the language access plans, or the primacy application requirements to describe the small system mailing waiver procedures.

3. Final Revisions

As described in section IV.A.3. of this preamble, the EPA is not requiring States to provide translated reports or translation assistance to consumers with LEP. Instead, the final rule clarifies the role for water systems to provide translated reports or translation assistance to their consumers if the system serves a large proportion of consumers with LEP and the role for States to provide systems with technical assistance. In § 142.16(f)(5)(i), the EPA is requiring the States' primacy application to include a description of how the State intends to provide CWSs with technical assistance in meeting the requirements in § 141.153(h)(3) for providing translation assistance in communities with a large proportion of consumers with limited English proficiency. 40 CFR 142.14(h)(2) requires States to keep a record of the language access plans submitted by systems serving 100,000 or more people for five years (see section IV. C. of this preamble). Also, in § 142.16(f)(5)(ii), primacy applications will need to include a description of the State's procedures for issuing small system mailing waivers consistent with § 141.155(g). Section VI. B. 3. of this preamble describes the final rule requirement for States to report CMD to the EPA annually. The EPA is making technical corrections to the numbering in § 142.16(f). Special primacy requirements proposed in § 142.16(f)(4) have been renumbered to § 142.16(f)(5) because § 142.16(f)(4) was inadvertently deleted in the proposed rule. The EPA is not creating any new obligations in § 142.16(f)(4) with these technical corrections.

IX. Economic Analysis

A. Estimates of the Total Annualized Cost of the Final Rule Revisions

The EPA estimates the total average annual cost of this final action would be $20 million. The estimated costs for the final CCR Rule Revisions include those incurred by primacy agencies and community water systems. The EPA categorized the costs into three categories: program costs, CCR production costs, and CMD reporting costs. The EPA discusses the expected costs as well as the assumptions and data sources used in preparation of this estimate in the Economic Analysis of the Final Revised Consumer Confidence Report Rule (USEPA, 2024a).

Estimated costs for this final rule (revised CCR Rule in 40 CFR part 141 and the CMD requirement in 40 CFR part 142) are based on the following assumptions about the requirements:

• CWSs serving 10,000 or more persons would provide two reports per year.

• All reports would include a report summary.

• Large systems serving 100,000 persons or more would be required to identify plans for providing meaningful access to the reports for consumers with limited English proficiency.

• All CWSs would include language explaining their corrosion control efforts and describe corrective actions they have taken to address any lead ALE that occurred in the system during the reporting period.

• Primacy agencies would report CMD to the EPA.

Exhibit 1 of this preamble details the EPA estimated annual average national costs using a two percent discount rate by major cost component. On November 9, 2023, the Office of Management and Budget (OMB) issued an updated Circular No. A-4 on the development of regulatory analysis as required under Executive Order 12866, that became effective March 1, 2024. Consistent with OMB's updated guidance, the annualized present value of the cost of the CCR Rule Revisions was calculated at a 2 percent discount rate. These numbers transform future anticipated costs associated with the final revised CCR rule requirements in the present value. The annualized cost for each category of cost, shown in Exhibit 1 is equal to the amortized present values of the costs in each category over the 25 years from the year of rule promulgation, 2024 to 2048.

Exhibit 1—Annualized Costs of the Final Revised CCR Rule at Two Percent Discount Rate
Cost component | Primacy agencies | Community water systems | Total
2% Discount Rate
Program Costs | $2,956,899 | $359,464 | $3,316,363
CCR Cost | 828,159 | 15,544,891 | 16,373,049
Compliance Monitoring Data Reporting | 77,691 | 0 | 77,691
Total | 3,862,749 | 15,904,355 | 19,767,103

Additional details regarding the EPA's cost assumptions and estimates can be found in the Draft Information Collection Request (ICR) (USEPA, 2024b), ICR Number 2764.02, which presents estimated cost and labor hours for the CCR Rule Revisions. Copies of the Draft ICR may be obtained from the EPA public docket for this final rule, under Docket ID No. EPA-HQ-OW-2022-0260.

B. Program and Administrative Costs for CCR and CMD

“Program costs” refers to the actions primacy agencies will take to adapt their respective CCR programs and CMD reporting activities. They include upfront program costs associated with revising their program and applying for primacy as well as ongoing costs associated with program maintenance. “Administrative” costs refer to CWS activities to prepare for the new CCR and CMD reporting requirements. The EPA estimates that upfront and ongoing program costs for primacy agencies and the upfront administrative costs to CWSs depend on the role the primacy agency plays in the CCR development process. The EPA grouped primacy agencies into three categories based on the level of support they provide in the development of CCRs.

• Category 1: Primacy agencies in this category do not develop CCRs nor provide direct technical assistance to CWSs in support of CCR development.

• Category 2: Primacy agencies in this category may fully or partially develop CCRs for a small number of their CWSs, or they may provide resources and technical assistance to all CWSs developing CCRs themselves.

• Category 3: Primacy agencies in this category develop all CCRs on behalf of their CWSs.

For reporting CMD, the EPA anticipates the upfront costs for primacy agencies will depend on whether the primacy agency currently uses SDWIS State. Those currently using SDWIS State will have a lower level of effort burden than those that do not currently use SDWIS State.

1. Upfront Costs

The EPA assumed each primacy agency must read and understand the rule after promulgation. A primacy agency must also develop a primacy revision package, update its reporting system, conduct preliminary data analysis, and conduct start-up activities such as staff training and outreach.

The EPA assumed CWSs will incur upfront administrative costs not directly related to the production of CCRs. These costs include reviewing training materials received from primacy agencies and training staff to produce CCRs in compliance with the rule revisions.

Before complying with the new CMD reporting requirement, States must adapt their existing reporting procedures or create a new reporting procedure. These upfront costs include staff training, setting up a reporting system for CMD, and formalizing procedures for providing CMD to the EPA.

The EPA anticipates the upfront costs for CMD reporting will depend on whether the primacy agency currently uses SDWIS State, and primacy agencies that currently use SDWIS State will have a lower level of effort burden than those that do not currently use SDWIS State. The EPA anticipates primacy agencies will expend some effort to design and develop procedures and workflows for managing data, develop support documentation, and test and validate these procedures.

2. Ongoing Costs

After adopting the rule revision, primacy agencies incur costs on an ongoing basis to administer the rule. In the case of the CCR Revisions, each primacy agency will collect and review data annually to determine which CWSs will have additional reporting requirements, i.e., biannual delivery and translation. Since this is a revision to an existing rule, the EPA assumed that primacy agencies will incur minimal additional ongoing program administration costs. These costs will consist only of compliance tracking, reporting, and enforcement activities for the additional biannual CCRs required by the revised rule. The EPA assumed primacy agencies already conduct other ongoing program administration activities, such as staff training, under the current CCR Rule and will not incur additional costs under the CCR Rule Revisions for these activities.

The only system size to incur ongoing administrative costs will be large systems serving 100,000 or more people. This is because these systems must periodically research, adjust, and update their translation plan to account for changing demographics, as well as revise their plan to address feedback from the primacy agency. Other administrative costs associated with activities all CWSs will conduct, such as ongoing training, is assumed to be $0 because CWSs already conduct ongoing staff training for the previous CCR rule, and general staff training is not considered a new activity under the revised rule.

Primacy agencies will incur costs on an ongoing basis to annually report CMD to the EPA. Specifically, each primacy agency will need resources to maintain their reporting systems.

C. Revisions to Consumer Confidence Report Requirements Costs

The EPA estimated the costs to primacy agencies and CWSs to comply with the rule revision. Although the CCR Rule applies to CWSs, the EPA assumed some primacy agencies will continue to provide support and will incur report development costs. The EPA anticipates all primacy agencies will also incur additional enforcement and reporting costs for the second CCR. The EPA assumed CWSs (and not primacy agencies) are responsible for delivering reports, including those developed by the primacy agency. “CCR production costs” refer to the burden that CWSs and primacy agencies will incur because of content and delivery changes that apply to CCRs. These changes include:

• Developing a brief report summary.

• Including language explaining their corrosion control efforts and developing descriptions of corrective actions following an ALE (if applicable) for the CCR.

• Providing a second CCR each year for CWSs serving 10,000 or more people.

• Posting CCR online for CWSs serving between 50,000 and 99,999 people.

• Good faith delivery efforts.

The EPA received a few comments on the costs of delivery of CCRs, noting that for water systems, biannual delivery would increase the costs associated with developing CCRs, as well as impose additional burden. One commenter expressed concern with increased costs of providing CCRs biannually, or twice per year, and stated that requiring biannual delivery for systems would significantly increase the workload of the staff responsible for tracking compliance with report deadlines and content. Another commenter noted that the costs of “good faith delivery,” such as publishing in local newspapers, were not accounted for in the estimated costs. The EPA agrees that the costs for CWSs serving 10,000 or more people will increase due to the requirement to provide CCRs twice per year; however, the agency has incorporated costs for the second delivery in the cost estimate, including “good faith” delivery. The EPA also anticipated that approximately 20 percent of the CWSs serving 10,000 or more people would be required to provide a 6-month update and has incorporated estimated costs to produce the 6-month update. A couple of commenters provided suggested revised estimates for postal rates, specifically noting that the costs vary depending on the mail class. The EPA agrees that postal rates vary and has updated the estimated postal rates to include a mix of mail categories.

The EPA received several comments related to costs of translations. A couple of commenters provided estimated translation costs and expressed concern with the potentially burdensome costs for providing translations. The EPA agrees that systems and States will incur costs for translations and has estimated the costs of providing translation access using a mix of translating reports or using a contracted translation hotline. As indicated in section IV.A.2.of this preamble, the EPA intends to provide translations for required content and templates following the rule promulgation to reduce the burden in developing CCRs for systems and States. The EPA made conservative assumptions for the purposes of estimating costs of the final rule, by including translation support costs of occasional use of a hotline and developing translated material.

The EPA also received a couple of comments on the estimated costs for primacy agencies. The commenters claimed that the EPA's Economic Analysis did not properly estimate the costs to primacy agencies that provide substantial support to CWSs in developing the CCRs, and they noted that the revisions will require those States to update their systems and processes for the revised rule. The EPA disagrees that the cost model does not incorporate costs for States providing support to CWSs because the agency used information provided by the Association of State Drinking Water Administrators (ASDWA, 2020) to assign each State and their CWSs into three categories (see section IX.B of this preamble). Program and CCR development costs were estimated for States and systems using the three categories.

D. Compliance Monitoring Data (CMD) Requirement Costs

This final rule will require the 66 primacy agencies to report the CMD for all NDPWRs to the EPA on an annual basis. These include data systems for 49 states, five territories, the Navajo Nation, nine direct implementation Tribal programs (as EPA Regions), DC (as EPA Region 3), and Wyoming (as EPA Region 8). CMD comprises sample results and related monitoring data for each NPDWR under 40 CFR part 141. Sample result data are the values of all samples PWSs are required to collect and report to primacy agencies for purposes of determining compliance with MCLs, MRDL, or TT established in the NPDWRs. The related monitoring data, or sample meta-data, represent several additional data elements, already required to be reported, about each sample result including sample location, collection date, and analytical method.

The EPA received several comments requesting clarification on the scope of CMD required to be reported under the proposed rulemaking, and the likely significant burden. See section VI.B. of this preamble for the EPA's response to the comments associated with the scope of CMD reported. After considering comments, EPA reduced the scope of the CMD required to be reported. After consideration of comments received, the EPA also revised the estimated costs of reporting CMD to account for the various formats and amount of CMD the agency expects to receive.

E. Qualitative Benefits

The effects of the revisions to the CCR Rule are difficult to quantify due to uncertainty of how many people read their CCRs and how changes to the report will affect their actions and health. Therefore, the EPA did not attempt to quantify how the CCR Rule Revisions will change the ability of CWSs to meet health-based standards or what reductions in morbidity or mortality will result. Instead, the EPA described the type of benefits the revisions could generate.

The EPA anticipates the rule revision will help better inform the public. This is because the rule revision will require CWSs to:

• Increase the frequency of CCR delivery (for systems serving 10,000 or more people).

• Improve the methods of CCR delivery.

• Increase accessibility for consumers with limited English proficiency.

• Improve the clarity of CCRs.

• Include additional health-relevant information in CCRs.

• In addition, the CMD annual reporting requirements will allow for a better understanding of water system implementation of drinking water regulations, which better informs the public and allows the EPA and States to address public health issues more readily.

All these changes will lead to a more informed public. A more informed consumer is better equipped to make decisions about their health. In addition, a more informed public may be more likely to provide input on water quality and engage with their local water system and local decision-makers.

The EPA anticipates the primary benefit of the CCR Rule Revisions will be an improvement to public health protection. The revised rule will ensure consumers in all communities have accurate, timely, and accessible drinking water data. This will allow consumers to make educated decisions regarding any potential health risks pertaining to the quality, treatment, and management of their drinking water supply.

The EPA anticipates the primary benefit of the final rule requirements for States to submit to the EPA CMD for all NPDWRs will be an improvement in the EPA's ability to fulfill its oversight responsibilities under SDWA as a result of ready access to water system compliance monitoring data. The EPA also anticipates that ready access to CMD will provide benefits as a result of a more complete and accurate understanding of trends in contaminant occurrence and water system compliance. It will also support EPA's periodic reviews of existing regulations, enable a more comprehensive approach to identifying infrastructure needs, and inform the EPA and State collaboration to deliver technical and funding assistance to water systems that more effectively addresses underlying technical, managerial, and financial capacity-building needs. The EPA also anticipates benefits from an improved ability to provide more complete and accurate information on compliance to Congress and the public, consistent with GAO's recommendations (USGAO, 2011).

X. Statutory and Executive Order Reviews

A. Executive Order 12866: Regulatory Planning and Review and Executive Order 14094: Modernizing Regulatory Review

This action is not a significant regulatory action as defined in Executive Order 12866, as amended by Executive Order 14094, and was therefore not subject to a requirement for Executive Order 12866 review. The Economic Analysis of the Consumer Confidence Report Rule Revisions (which includes costs associated with the CMD reporting requirement) is available in the docket and is summarized in section IX. of this preamble.

B. Paperwork Reduction Act

The information collection activities in this rule have been submitted for approval to OMB under the Paperwork Reduction Act. The ICR document that the EPA prepared has been assigned the agency's ICR number 2764.02. You can find a copy of the ICR in the docket for this rule, and it is briefly summarized here. The information collection requirements are not enforceable until OMB approves them.

The major information requirements concern CWS and primacy agency activities to implement the rule including recordkeeping and reporting requirements. This ICR provides preliminary burden and cost estimates for the Consumer Confidence Report Rule Revisions and CMD reporting.

Respondents/affected entities: The respondents/affected entities are community water systems and States.

Respondent's obligation to respond: Under this rule the respondent's obligation to respond is mandatory. Section 1414(c)(4) requires “each community water system to mail, or provide by electronic means, to each customer of the system at least once annually a report on the level of contaminants in the drinking water purveyed by that system” Furthermore, section 1445(a)(1)(A) of the SDWA requires that “[e]very person who is subject to any requirement of this subchapter or who is a grantee, shall establish and maintain such records, make such reports, conduct such monitoring, and provide such information as the Administrator may reasonably require by regulation to assist the Administrator in establishing regulations under this subchapter, in determining whether such person has acted or is acting in compliance with this subchapter.” In addition, section 1413(a)(3) of the SDWA requires States to “keep such records and make such reports . . . as the Administrator may require by regulation.”

Estimated number of respondents: Total respondents include 66 primacy agencies (50 States plus the District of Columbia, U.S. territories, the EPA Regions conducting direct implementation of Tribal primacy, and one Tribal nation), 49,424 are CWSs, for a total of 49,490 respondents.

Frequency of response: The frequency of response varies across respondents and year of implementation. In the initial 3-year ICR period for the CCR Rule Revision, systems will continue to deliver reports annually until the compliance date of 2027. Following promulgation of the final rule, primacy agencies and CWs will conduct upfront start up activities for the first two years. CWSs activities will include reading guidance from their primacy agency, training staff, and conducting background research for developing language access plans (systems serving 100,000 or more people). For the first two years of implementation, primacy agencies will become familiar with the rule, prepare and submit primacy applications, update their reporting systems, and conduct outreach and training for systems and staff. Beginning in 2027, systems serving 10,000 or more people will be required to provide report biannually, or twice per year. Systems serving 100,000 or more will be required to submit a plan to provide meaningful access by July 1, 2027. Primacy agencies will be required to submit comprehensive CMD to the EPA beginning in 2027.

Total estimated burden: 115,895 hours (per year). Burden is defined at 5 CFR 1320.3(b).

Total estimated cost: $4.4 million (per year), includes $0 million annualized capital or operation & maintenance costs.

An agency may not conduct or sponsor, and a person is not required to respond to, a collection of information unless it displays a currently valid OMB control number. The OMB control numbers for the EPA's regulations in 40 CFR are listed in 40 CFR part 9. When OMB approves this ICR, the agency will announce that approval in the Federal Register and publish a technical amendment to 40 CFR part 9 to display the OMB control number for the approved information collection activities contained in this final rule.

C. Regulatory Flexibility Act

I certify that this action will not have a significant economic impact on a substantial number of small entities under the Regulatory Flexibility Act (RFA). The small entities subject to the requirements of this action are PWSs serving 10,000 people or fewer. This is the threshold specified by Congress in the 1996 Amendments to the SDWA for small water system flexibility provisions. As required by the RFA, the EPA proposed using this alternative definition in the Federal Register (USEPA, 1998a), sought public comment, consulted with the Small Business Administration, and finalized the small water system threshold in the agency's CCR regulation (USEPA, 1998b). As stated in that final rule, the alternative definition is applied to this final regulation.

The EPA has determined that of the approximately 45,000 small entities serving fewer than 10,000 people, no small entities (zero percent) will experience an impact of greater than one percent of average annual revenues. Details of this analysis are presented in the Docket (EPA-HQ-OW-2022-0260).

D. Unfunded Mandates Reform Act

This action does not contain an unfunded mandate of $100 million or more as described in the Unfunded Mandates Reform Act (UMRA), 2 U.S.C. 1531-1538, and does not significantly or uniquely affect small governments. The action imposes minimal enforceable duties on any state, local or Tribal governments or the private sector.

Based on the cost estimates detailed in section IX of this preamble, the EPA determined that compliance costs in any given year would be below the threshold set in UMRA, with maximum single-year costs of approximately $22 million dollars. The EPA has determined that this rule contains a Federal mandate that would not result in expenditures of $100 million or more for state, local, and Tribal governments, in the aggregate, or the private sector in any one year.

This rule will establish requirements that affect small CWSs. However, the EPA has determined that this rule contains no regulatory requirements that might significantly or uniquely affect small governments because the regulation requires minimal expenditure of resources.

E. Executive Order 13132: Federalism

The EPA has determined that this action will have minor federalism implications under Executive Order 13132. It will not have substantial direct effects on the State, on the relationship between the National Government and the States, or on the distribution of power and responsibilities among the various levels of government.

The EPA concluded that this rule may be of interest to State because it may impose direct compliance costs on public water systems and/or primacy agencies and the Federal Government will not provide the funds necessary to pay those costs. As a result of this determination, the EPA held a federalism consultation with state and local government and partnership originations on August 25, 2022, to allow them the opportunity to provide meaningful and timely input into its development. The EPA invited the following national organizations representing state and local government and partnership organizations to participate in the consultation: the National Governors Association, National Association of Counties, National League of Cities, United States Conference of Mayors, National Conference of State Legislatures, Environmental Council of the States, Association of Metropolitan Water Agencies, American Water Works Association, Association of State Drinking Water Administrators, Association of Clean Water Administrators, Association of State and Territorial Health Officials, National Rural Water Association, National Water Resources Association, and Western States Water Council to request their input on the rulemaking.

In addition to input received during the meetings, the EPA provided an opportunity for the public to provide written input within 60 days after the initial meeting. A summary report of the views expressed during the federalism consultation is available in the Docket (EPA-HQ-OW-2022-0260).

F. Executive Order 13175: Consultation and Coordination With Indian Tribal Governments

This action has Tribal implications. However, it will neither impose substantial direct compliance costs on federally recognized Tribal governments, nor preempt Tribal law. As described previously, the CCR Rule Revision would apply to all CWS and would require systems serving more than 10,000 people to provide reports biannually, or twice per year. Information in the SDWIS FED water system inventory indicates there are approximately 711 total Tribal systems, including 19 large Tribal CWSs (serving more than 10,001 customers). The rule would also impact a Tribal government that has primary enforcement authority (primacy) for PWSs on Tribal lands.

Consistent with the EPA Policy on Consultation and Coordination with Indian Tribes (May 4, 2011), the EPA consulted with Tribal officials during the development of this action to gain an understanding of Tribal views of potential revisions to specific areas of the Consumer Confidence Report Rule. The start of the initial Tribal consultation and coordination period began on March 14, 2022, during which a Tribal consultation notification letter was mailed to Tribal leaders of federally recognized Tribes. During the initial consultation period the EPA hosted two identical national webinars with interested Tribes on March 22, 2022, and April 7, 2022, to request input and provide rulemaking information to interested parties. The close of the initial consultation period and deadline for feedback and written comments to the EPA was June 14, 2022. The EPA received both verbal and written comments during the two informational webinars. A summary of the CCR Rule Revisions Tribal consultation and comments received is included with supporting materials in the docket.

Preceding the conclusion of the initial Tribal consultation period, the EPA began considering additional revisions that would expand the scope of the CCR rulemaking to include a requirement for primacy agencies to submit comprehensive CMD annually to the agency. However, this revision was not described during the initial consultation and coordination period. The EPA identified the Navajo Nation as the lone Tribal government with primacy that would be subject to the primacy requirement and offered supplemental consultation and coordination with the Navajo Nation to discuss any potential impacts or concerns about how the CMD submission requirement would affect the Navajo Nation. All supplemental consultation and coordination processes were conducted in accordance with the EPA Policy on Consultation and Coordination with Indian Tribes. The supplemental Tribal consultation period was open from August 30, 2022, through October 14, 2022. The EPA did not receive any additional comments on the proposed rule during the supplemental Tribal consultation process.

G. Executive Order 13045: Protection of Children From Environmental Health and Safety Risks

Executive Order 13045 directs Federal agencies to include an evaluation of the health and safety effects of the planned regulation on children in Federal health and safety standards and explain why the regulation is preferable to potentially effective and reasonably feasible alternatives. This action is not subject to Executive Order 13045 because it is not a significant regulatory action under section 3(f)(1) of Executive Order 12866, and because the EPA does not believe the environmental health or safety risks addressed by this action present a disproportionate risk to children. The requirements in this rule apply to potential health risks to all consumers and vulnerable populations and are not targeted specifically to address a disproportionate risk to children.

However, the EPA's Policy on Children's Health may apply to this action. The proposed revisions to the CCR Rule would continue to address risks to children from contaminants in drinking water by informing parents and guardians and will strengthen the EPA oversight of PWSs by requiring the submittal of CMD.

H. Executive Order 13211: Actions Concerning Regulations That Significantly Affect Energy Supply, Distribution or Use

This action is not subject to Executive Order 13211, because it is not a significant regulatory action under Executive Order 12866. This action is not likely to have a significant adverse effect on the supply, distribution or use of energy and has not otherwise been designated by the Administrator of the Office of Information and Regulatory Affairs as a significant energy action. The entities affected by this action do not, as a rule, generate power. This action does not regulate any aspect of energy distribution as the water systems and State, territories, and Tribal agencies that are proposed to be regulated by this rule already have electrical service. As such, the EPA does not anticipate that this rule will have a significant adverse effect on the supply, distribution, or use of energy.

I. National Technology Transfer and Advancement Act

This rule does not involve technical standards. Under section 12(d) of the National Technology Transfer and Advancement Act, the agency is required to use voluntary consensus standards in its regulatory and procurement activities unless to do so would be inconsistent with applicable law or otherwise impractical. Where available and potentially applicable voluntary consensus standards are not used by the EPA, the Act requires the agency to provide Congress, through the OMB, an explanation of the reasons for not using such standards. Because this rule does not involve or require the use of any technical standards, the EPA does not believe that this Act is applicable to this rule. Moreover, the EPA is unaware of any voluntary consensus standards relevant to this rule.

J. Executive Order 12898: Federal Actions To Address Environmental Justice in Minority Populations and Low-Income Populations and Executive Order 14096: Revitalizing Our Nation's Commitment to Environmental Justice for All

Executive Order 12898 directs Federal agencies, to the greatest extent practicable and permitted by law, to make environmental justice part of their mission by identifying and addressing, as appropriate, disproportionately high and adverse human health or environmental effects of their programs, policies, and activities on minority populations (people of color and/or Indigenous peoples) and low-income populations. The EPA believes that the human health or environmental conditions that exist prior to this action have the potential to result in disproportionate and adverse human health or environmental effects on communities with EJ concerns.

The EPA believes that this action is likely to reduce existing disproportionate and adverse effects on communities with EJ concerns by increasing the availability of drinking water compliance data to the public, improving delivery options of CCRs for non-bill paying consumers and improving the ability of consumers with LEP to access translation support to understand the information in their reports. Improved access to critical information in CCRs can also encourage these consumers to become more involved in decisions which may affect their health and promote dialogue between consumers and their drinking water utilities.

CCRs are communication tools used by water systems to provide consumers information about drinking water quality, including, but not limited to, detected contaminants and violations. In enacting AWIA of 2018, Congress recognized the need to improve the availability and understandability of information contained in CCRs. Members of many underserved communities may be renters, making them less likely to receive the same CCR information that bill-paying customers who own their homes receive through direct delivery. Based on 2021 Census information (U.S. Census Bureau, 2021a), households who rent are much more likely to be below the poverty level than households who own their homes. Often renters do not receive copies of the CCR, as these reports are often delivered by CWSs to the billing address on file for these communities, which is often a central management office or property owner. While these systems are required to make a “good faith effort” to deliver CCRs to non-bill paying customers, often the reports are not distributed to all community members. At the National Drinking Water Advisory Council meeting on September 30, 2021, members specifically expressed their concern about non-bill paying customers not receiving the CCR (NDWAC, 2021).

The EPA is expanding the existing language in the rule at § 144.155(b) for “good faith” delivery methods to include examples of more modern outreach efforts, such as social media options.

In addition to CCRs being difficult for residents of some communities to access, they often contain technical language that may be particularly difficult for consumers with LEP to understand. Based on 2021 data from the U.S. Census Bureau (U.S. Census Bureau, 2021b), people in limited English households, i.e., households where no one in the household age 14 and over speaks English only or speaks English “very well”, are roughly two times as likely to be people of color as people in all other households, i.e., households where at least one person in the household age 14 and over speaks English only or speaks English “very well.” LEP can be a barrier to accessing and understanding the information presented in CCRs. If consumers with LEP are not able to read and understand the reports, or have sufficient access to that information, the value of the CCR is diminished and raises equity concerns that consumers with LEP may not have as complete an understanding about the quality of their drinking water as more proficient English-speaking consumers. During an interview with a consumer protection organization, the participants noted that based on their experience, members with LEP that lived in manufactured housing communities had difficulties getting translation assistance with CCRs. See revisions the EPA finalized to support consumers with LEP in section IV of this preamble.

In developing this rule, the EPA provided meaningful involvement by engaging with a variety of stakeholders to better understand and address EJ concerns. This included interviewing an EJ organization and a consumer protection organization (USEPA, 2022f). The NDWAC CCR Rule Revisions working group consisted of twelve people from PWSs, environmental groups, public interest groups, and Federal, State, and Tribal agencies, including a member from the EPA's National Environmental Justice Advisory Council. The EPA specifically sought engagement with communities that have been disproportionately impacted by lead in drinking water for the LCRR, especially lower-income people and communities of color that have been underrepresented in past rule-making efforts as part of the EPA's commitment to EJ. In considering revisions to the CCR Rule, the EPA reviewed comments from those meetings related to notifications and CCRs, see section II.D of this preamble for more information about stakeholder engagement. Additional information on consultations and stakeholder engagement can be found in the proposed rulemaking (88 FR 20092, April 5, 2023), and supporting documents are included in the rule docket (EPA-HQ-OW-2022-0260).

The information supporting this Executive order review is contained in section II. D. Consultations, and section IV. Translation Assistance of this preamble and in the proposed rule (88 FR 20092, April 5, 2023), and supporting documents are included in the rule docket (EPA-HQ-OW-2022-0260).

The EPA anticipates the primary benefit of the final rule requirements for State to submit to the EPA CMD for all NPDWRs will be an improvement in the EPA's ability to fulfill its oversight responsibilities under SDWA as a result of ready access to water system compliance monitoring data. The EPA also anticipates that ready access to CMD will provide benefits as a result of a more complete and accurate understanding of trends in contaminant occurrence and water system compliance. It will also support the EPA's periodic reviews of existing regulations, enable a more comprehensive approach to identifying infrastructure needs, and informing the EPA and state collaboration to deliver technical and funding assistance to water systems that more effectively addresses underlying technical, managerial, and financial capacity-building needs. The EPA also anticipates benefits from an improved ability to provide more complete and accurate information on compliance to Congress and the public, consistent with GAO's recommendations (USGAO, 2011).

K. Congressional Review Act

This action is subject to the Congressional Review Act, and the EPA will submit a rule report to each House of the Congress and to the Comptroller General of the United States. This action is not a “major rule” as defined by 5 U.S.C. 804(2).

XI. Severability

The purpose of this section is to clarify the EPA's intent with respect to the severability of provisions of this rule. If the provision to report CMD is determined by judicial review or operation of law to be invalid, the EPA intends that the partial invalidation should not render any portion of the revisions to the CCR rule and associated primacy requirements invalid. Moreover, if any provision or interpretation in this final rule is determined by judicial review or operation of law to be invalid, including provisions related to either CMD or CCR, that partial invalidation should not render the remainder of this final rule invalid.

XII. References

164 Cong. Rec. H8184 (daily ed. September 13, 2018) (statement of Rep. Dingell) https://www.congress.gov/congressional-record/volume-164/issue-153/house-section/article/H8184-4.

Consent Decree Natural Resources Defense Council v. Michael Regan, Administrator of the United States Environmental Protection Agency, et al., No. 21-cv-461 (S.D.N.Y. 7 Dec. 2021) (available at Docket no. EPA-HQ-OGC-2021-0753).

Centers for Disease Control and Prevention. (2019). CDC clear communication index: a tool for developing and assessing CDC public communication products: user guide. https://www.cdc.gov/ccindex/index.html.

NDWAC. (December 14, 2021). NDWAC recommendations to the U.S Environmental Protection Agency on targeted issues related to revisions to the Consumer Confidence Report Rule.

Executive Order 12866. Regulatory Planning and Review. Federal Register 58(190). September 30, 1993. Washington, DC: Government Printing Office.

Executive Order 12898. Federal Action to Address Environmental Justice in Minority Populations and Low-Income Populations. Federal Register 59(32):7629. February 16, 1994. Washington, DC: Government Printing Office.

Executive Order 13045. Protection of Children From Environmental Health Risks and Safety Risks. Federal Register 62(78):19885. April 23, 1997. Washington, DC: Government Printing Office.

Executive Order 13132. Federalism. Federal Register 64(153):43255. August 10, 1999. Washington, DC: Government Printing Office.

Executive Order 13175. Consultation and Coordination With Indian Tribal Governments. Federal Register 65(218):67249. November 9, 2000. Washington, DC: Government Printing Office.

Executive Order 13211. Actions Concerning Regulations That Significantly Affect Energy Supply, Distribution, or Use. Federal Register 66(99):28355. May 22, 2001. Washington, DC: Government Printing Office.

Executive Order 13563. Improving Regulation and Regulatory Review. Federal Register 76(14):3821. January 21, 2011. Washington, DC: Government Printing Office.

Executive Order 13990. Protecting Public Health and the Environment and Restoring Science To Tackle the Climate Crisis. Federal Register 86(14):7037. January 20. 2021. Washington, DC: Government Printing Office.

Executive Order 14094. Modernizing Regulatory Review. Federal Register 88(69):21879. April 11, 2023. Washington, DC: Government Printing Office.

Executive Order 14096. Revitalizing Our Nation's Commitment to Environmental Justice for All. Federal Register 88(80):25251. April 21, 2023. Washington, DC: Government Printing Office.

Office of Management and Budget, Executive Office of the President, OMB Circular A-4, Regulatory Analysis (2023).

U.S. House. Committee on Energy and Commerce. Drinking Water System Improvement Act of 2017. (H. Rpt. 115-380). 2017. Washington: Government Printing Office, 2017. (Y1.1/8: 115-380).

United States. 2018. America's Water Infrastructure Act. Public Law 115-270, 132 Stat. 3765, Title II (October 23, 2018).

United States. 2019. Foundations for Evidence-Based Policymaking Act. Public Law 115-435. Available at: https://www.govinfo.gov/content/pkg/PLAW-115publ435/pdf/PLAW-115publ435.pdf.

United States. 2021 Infrastructure Investment and Jobs Act. Public Law 117-58. Available at: https://www.govinfo.gov/content/pkg/PLAW-117publ58/pdf/PLAW-117publ58.pdf.

U.S. Census Bureau. (2021a). American Housing Survey (AHS). Table Creator, available at https://www.census.gov/programs-surveys/ahs/data/interactive/ahstablecreator.html?s_areas=00000&s_year=2021&s_tablename=TABLE9&s_bygroup1=2&s_bygroup2=1&s_filtergroup1=1&s_filtergroup2=1.

U.S. Census Bureau. (2021b). DP02: Selected Social Characteristics in the United States. U.S. Census Bureau, 2016-2020 American Community Survey 5-Year Estimates. Available at: https://data.census.gov/table?t=Language+Spoken+at+Home&g=0100000US$1600000&tid=ACSDP5Y2020.DP02.

USEPA. (1991). WSG 61A. U.S. Environmental Protection Agency. Memorandum to Drinking Water/Groundwater Protection Branch Chiefs, Regions I-X, from Connie Bosma (signed by Ray Enyeart), Drinking Water Branch. Definitions of Types of Public Water Systems and Populations Served by Those Systems. (August 21, 1991).

USEPA. (1998a). National Primary Drinking Water Regulations: Consumer Confidence Reports; Proposed rule and notice of alternative definition. Federal Register. 63 FR 7606. February 13, 1998.

USEPA. (1998b). National Primary Drinking Water Regulations: Consumer Confidence Reports; Final rule. Federal Register. 63 FR 44524. August 19, 1998.

USEPA. (2012). Consumer Confidence Report (CCR) Rule Retrospective Review Summary (EPA Publication No. EPA 816-S-12-001). U.S. Environmental Protection Agency. https://www.epa.gov/sites/default/files/2014-05/documents/epa816s12004.pdf.

USEPA. (2013). WSG 189. U.S. Environmental Protection Agency. Memorandum to Water Division Directors, Regions I-X, from Peter Grevatt, Office of Ground Water & Drinking Water. Safe Drinking Water Act—Consumer Confidence Report Rule Delivery Options (January 3, 2013).

USEPA. (2021a). Final Allotments for the FY2021 Public Water System Supervision (PWSS) State and Tribal Support Program Grants, from Catherine Davis, Office of Ground Water & Drinking Water. (March 2, 2021).

USEPA. (2021). Lead and Copper Rule (LCRR) Virtual Engagements; Announcement of events; request for public comment. Federal Register. 86 FR 17571. April 5, 2021.

USEPA. (2021c). Consumer Confidence Report Rule Revisions Stakeholder Engagement: Summary of LCRR Engagement. Office of Water.

USEPA. (2021c). National Primary Drinking Water Regulations: Lead and Copper Rule Revisions; Final rule. Federal Register. 86 FR 4198. January 15, 2021.

USEPA (2021d). Proposed Consent Decree, Safe Drinking Water Act Claims. Federal Register. 86 FR 59383, October 17, 2021.

USEPA. (2022a). Drinking Water Compliance Monitoring Data Strategic Plan (EPA Publication No. EPA 810-R-19-002). U.S. Environmental Protection Agency.

USEPA. (2022b). FY2022-FY2026 Strategic Plan. U. S. Environmental Protection Agency. https://www.epa.gov/system/files/documents/2022-03/fy-2022-2026-epa-strategic-plan.pdf.

USEPA. (2022c). Summary Report on Tribal Consultation: Consumer Confidence Report Rule Revisions. Office of Water.

USEPA. (2022d). Summary Report on Federalism: Consumer Confidence Report Rule Revisions. Office of Water.

USEPA. (2022e). Analysis of the Economic Impacts of the Proposed Consumer Confidence Reports Rule Revisions. Office of Water.

USEPA. (2022f). Consumer Confidence Report Rule Revisions Stakeholder Engagement: Interview Summary. Office of Water.

USEPA. (2022g). Draft Information Collection Request for the Consumer Confidence Report Rule Revisions and Compliance Monitoring Data Collection. Office of Water.

USEPA. (2022h). Final Allotments for the FY2022 Public Water System Supervision (PWSS) State and Tribal Support Program Grants, from Catherine Davis, Office of Ground Water & Drinking Water. (April 21, 2022).

USEPA. (2023). National Primary Drinking Water Regulations: Consumer Confidence Report Rule Revisions; Proposed Rule. Federal Register. 88 FR 20092. April 5, 2023.

USEPA. (2024a). Economic Analysis of the Final Consumer Confidence Reports Rule Revisions. Office of Water.

USEPA. (2024b). Draft Information Collection Request for the final Consumer Confidence Report Rule Revisions and Compliance Monitoring Data Collection. Office of Water.

US GAO. (2006). Drinking Water: EPA Should Strengthen Ongoing Efforts to Ensure That Consumers Are Protected from Lead Contamination. (GAO publication No. GAO-06-148). U.S. Government Accountability Office. https://www.gao.gov/products/gao-06-148.

US GAO. (2011). Drinking Water: Unreliable State Data Limit EPA's Ability to Target Enforcement Priorities and Communicate Water Systems' Performance. (GAO publication No. GAO-11-381). U.S. Government Accountability Office. https://www.gao.gov/products/gao-11-381.

List of Subjects

40 CFR Part 141

Environmental protection, Copper, Indians—lands, Intergovernmental relations, Lead, Lead service line, National Primary Drinking Water Regulation, Reporting and recordkeeping requirements, Water supply.

40 CFR Part 142

Environmental protection, Administrative practice and procedure, Copper, Indians—lands, Intergovernmental relations, Lead, Lead service line, National Primary Drinking Water Regulation, Reporting and recordkeeping requirements, Water supply.

Michael S. Regan,
Administrator.

For the reasons set forth in the preamble, the EPA amends 40 CFR parts 141 and 142 as follows:

PART 141—NATIONAL PRIMARY DRINKING WATER REGULATIONS

1. The authority citation for part 141 continues to read as follows:

Authority: 42 U.S.C. 300f, 300g-1, 300g-2, 300g-3, 300g-4, 300g-5, 300g-6, 300j-4, 300j-9, and 300j-11.

2. Amend § 141.151 by revising paragraphs (a), (c), and the first sentence of paragraph (f) to read as follows:

§ 141.151 Purpose and applicability of this subpart.

(a) This subpart establishes the minimum requirements for the content of reports that community water systems must deliver to their customers. These reports must contain information on the quality of the water delivered by the systems and characterize the risks (if any) from exposure to contaminants detected in the drinking water in an accurate and understandable manner. This subpart also includes requirements for systems serving more than 100,000 persons to develop and annually update a plan for providing assistance to consumers with limited English proficiency.

* * * * *

(c) For the purpose of this subpart, customers are defined as billing units or service connections to which water is delivered by a community water system. For the purposes of this subpart, consumers are defined as people served by the water system, including customers, and people that do not receive a bill.

* * * * *

(f) For purpose of this subpart, the term “primacy agency” refers to the State or Tribal government entity that has jurisdiction over, and primary enforcement responsibility for, public water systems, even if that government does not have interim or final primary enforcement responsibility for this part. * * *

3. Amend § 141.152 by:

a. Revising the section heading and paragraphs (a) through (c) and (d)(1);

b. Removing the period at the end of paragraph (d)(2) and adding “; and” in its place; and

c. Adding paragraph (d)(3).

The revisions and addition read as follows:

§ 141.152 Compliance dates.

(a) Between June 24, 2024, and December 31, 2026, community water systems must comply with §§ 141.151 through 141.155, as codified in 40 CFR part 141, subpart O, on July 1, 2023. Beginning January 1, 2027, community water systems must comply with §§ 141.151 through 141.156.

(b) Each existing community water system must deliver reports according to § 141.155 by July 1 each year. Each report delivered by July 1 must contain data collected during the previous calendar year, or the most recent calendar year before the previous calendar year.

(c) A new community water system must deliver its first report by July 1 of the year after its first full calendar year in operation.

(d) * * *

(1) By April 1, 2027, and annually thereafter; or

* * * * *

(3) A community water system that sells water to another community water system that is required to provide reports biannually according to § 141.155(i) must provide the applicable information required in § 141.155(j) by October 1, 2027, to the buyer system, and annually thereafter, or a date mutually agreed upon by the seller and the purchaser, included in a contract between the parties.

4. Amend § 141.153 by:

a. Revising paragraphs (a) and the first sentence of paragraph (b)(2);

b. Adding paragraph (c)(1)(iii);

c. Adding paragraph (c)(5);

d. Removing the period at the end of paragraph (d)(1)(i) and adding “; and” in its place;

e. Removing “; and” at the end of paragraph (d)(1)(ii) and adding a period in its place;

f. Removing paragraph (d)(1)(iii);

g. Revising paragraphs (d)(2), (d)(3) introductory text, and (d)(3)(i);

h. Removing and reserving paragraph (d)(3)(ii);

i. Revising and republishing paragraph (d)(4);

j. Revising paragraphs (d)(5) through (7);

k. Adding paragraph (d)(8);

l. Revising paragraphs (e)(1) introductory text and (e)(3) introductory text;

m. Revising paragraphs (f) introductory text and (f)(3); and

n. Revising and republishing paragraph (h).

The revisions and additions read as follows:

§ 141.153 Content of the reports.

(a) Each community water system must provide to its customers a report(s) that contains the information specified in this section, § 141.154, and include a summary as specified in § 141.156.

(b) * * *

(2) If a source water assessment has been completed, the report must notify consumers of the availability of this information, the year it was completed or most recently updated, and the means to obtain it. * * *

(c) * * *

(1) * * *

(iii) Contaminant: Any physical, chemical, biological, or radiological substance or matter in water.

* * * * *

(5) Systems must use the following definitions for the terms listed below if the terms are used in the report unless the system obtains written approval from the state to use an alternate definition:

(i) Pesticide: Generally, any substance or mixture of substances intended for preventing, destroying, repelling, or mitigating any pest.

(ii) Herbicide: Any chemical(s) used to control undesirable vegetation.

(d) * * *

(2) The data relating to these contaminants must be presented in the reports in a manner that is clear and understandable for consumers. For example, the data may be displayed in one table or in several adjacent tables. Any additional monitoring results which a community water system chooses to include in its report must be displayed separately.

(3) The data must be derived from data collected to comply with EPA and State monitoring and analytical requirements during the previous calendar year, or the most recent calendar year before the previous calendar year except that:

(i) Where a system is allowed to monitor for regulated contaminants less often than once a year, the contaminant data section must include the date and results of the most recent sampling and the report must include a brief statement indicating that the data presented in the report are from the most recent testing done in accordance with the regulations. No data older than 5 years need be included.

* * * * *

(4) For each detected regulated contaminant (listed in appendix A to this subpart), the contaminant data section(s) must contain:

(i) The MCL for that contaminant expressed as a number equal to or greater than 1.0 (as provided in appendix A to this subpart);

(ii) The MCLG for that contaminant expressed in the same units as the MCL;

(iii) If there is no MCL for a detected contaminant, the contaminant data section(s) must indicate that there is a treatment technique, or specify the action level, applicable to that contaminant, and the report must include the definitions for treatment technique and/or action level, as appropriate, specified in paragraph (c)(3) of this section;

(iv) For contaminants subject to an MCL, except turbidity and E. coli, the contaminant data section(s) must contain the highest contaminant level used to determine compliance with an NPDWR and the range of detected levels, as follows:

(A) When compliance with the MCL is determined annually or less frequently: The highest detected level at any sampling point and the range of detected levels expressed in the same units as the MCL.

(B) When compliance with the MCL is determined by calculating a running annual average of all samples taken at a monitoring location: the highest average of any of the monitoring locations and the range of individual sample results for all monitoring locations expressed in the same units as the MCL. For the MCLs for TTHM and HAA5 in § 141.64(b)(2), systems must include the highest locational running annual average for TTHM and HAA5 and the range of individual sample results for all monitoring locations expressed in the same units as the MCL. If more than one location exceeds the TTHM or HAA5 MCL, the system must include the locational running annual averages for all locations that exceed the MCL.

Note to paragraph (d)(4)(iv): When rounding of results to determine compliance with the MCL is allowed by the regulations, rounding should be done prior to multiplying the results by the factor listed in appendix A of this subpart.

(v) For turbidity.

(A) When it is reported pursuant to § 141.13: The highest average monthly value.

(B) When it is reported pursuant to the requirements of § 141.71: the highest monthly value. The report should include an explanation of the reasons for measuring turbidity.

(C) When it is reported pursuant to § 141.73 or § 141.173 or § 141.551: the highest single measurement and the lowest monthly percentage of samples meeting the turbidity limits specified in § 141.73 or § 141.173, or § 141.551 for the filtration technology being used. The report should include an explanation of the reasons for measuring turbidity;

(vi) For lead and copper: the 90th percentile concentration of the most recent round(s) of sampling, the number of sampling sites exceeding the action level, and the range of tap sampling results;

(vii) [Reserved]

(viii) [Reserved]

(ix) The likely source(s) of detected contaminants to the best of the operator's knowledge. Specific information regarding contaminants may be available in sanitary surveys and source water assessments, and should be used when available to the operator. If the operator lacks specific information on the likely source, the report must include one or more of the typical sources for that contaminant listed in appendix A to this subpart that is most applicable to the system; and

(x) For E. coli analytical results under subpart Y: The total number of E. coli positive samples;(5) If a community water system distributes water to its customers from multiple hydraulically independent distribution systems that are fed by different raw water sources, the contaminant data section(s) should differentiate contaminant data for each service area and the report should identify each separate distribution system. For example, if displayed in a table, it should contain a separate column for each service area. Alternatively, systems could produce separate reports tailored to include data for each service area.

(6) The detected contaminant data section(s) must clearly identify any data indicating violations of MCLs, MRDLs, or treatment techniques, and the report must contain a clear and readily understandable explanation of the violation including: the length of the violation, the potential adverse health effects, and actions taken by the system to address the violation. To describe the potential health effects, the system must use the relevant language of appendix A to this subpart.

(7) For detected unregulated contaminants for which monitoring is required, the reports must present the average and range at which the contaminant was detected. The report must include a brief explanation of the reasons for monitoring for unregulated contaminants such as:

(i) Unregulated contaminant monitoring helps EPA to determine where certain contaminants occur and whether the Agency should consider regulating those contaminants in the future.

(ii) May use an alternative educational statement in the CCR if approved by the Primacy Agency.

(8) For systems that exceeded the lead action level in § 141.80(c), the detected contaminant data section must clearly identify the exceedance if any corrective action has been required by the Administrator or the State during the monitoring period covered by the report. The report must include a clear and readily understandable explanation of the exceedance, the steps consumers can take to reduce their exposure to lead in drinking water, and a description of any corrective actions the system has or will take to address the exceedance.

(e) * * *

(1) If the system has performed any monitoring for Cryptosporidium which indicates that Cryptosporidium may be present in the source water or the finished water, the report must include:

* * * * *

(3) If the system has performed additional monitoring which indicates the presence of other contaminants in the finished water, EPA strongly encourages systems to report any results which may indicate a health concern. To determine if results may indicate a health concern, EPA recommends that systems find out if EPA has proposed an NPDWR or issued a health advisory for that contaminant by contacting the Agency by calling the Safe Drinking Water Hotline (800-426-4791) or an alternative method identified on the website epa.gov/safewater. EPA considers detects above a proposed MCL or health advisory level to indicate possible health concerns. For such contaminants, EPA recommends that the report include:

* * * * *

(f) Compliance with NPDWR. In addition to the requirements of paragraph (d)(6) of this section, the report must note any violation that occurred during the period covered by the report of a requirement listed below, and include a clear and readily understandable explanation of the violation, any potential adverse health effects, and the steps the system has taken to correct the violation.

* * * * *

(3) Lead and copper control requirements prescribed by subpart I of this part. For systems that fail to take one or more actions prescribed by §§ 141.80(d), 141.81, 141.82, 141.83, 141.84, or 141.93, the report must include the applicable language of appendix A to this subpart for lead, copper, or both.

* * * * *

(h) Additional information:

(1) The report must contain a brief explanation regarding contaminants which may reasonably be expected to be found in drinking water including bottled water. This explanation may include the language of paragraphs (h)(1)(i) through (iii) of this section or systems may use their own comparable language. The report also must include the language of paragraph (h)(1)(iv) of this section.

(i) Both tap water and bottled water come from rivers, lakes, streams, ponds, reservoirs, springs, and wells. As water travels over the surface of the land or through the ground, it dissolves naturally occurring minerals and, in some cases, radioactive material. The water can also pick up and transport substances resulting from the presence of animals or from human activity. These substances are also called contaminants.

(ii) Contaminants are any physical, chemical, biological, or radiological substance or matter in water. Contaminants that may be present in source water include:

(A) Microbial contaminants, such as viruses and bacteria, which may come from sewage treatment plants, septic systems, agricultural livestock operations, and wildlife.

(B) Inorganic contaminants, such as salts and metals, which can occur naturally in the soil or groundwater or may result from urban stormwater runoff, industrial or domestic wastewater discharges, oil and gas production, mining, or farming.

(C) Pesticides and herbicides, which may come from a variety of sources such as agriculture, urban stormwater runoff, and residential uses.

(D) Organic chemical contaminants, including synthetic and volatile organic chemicals, which are by-products of industrial processes and petroleum production, and can also come from gas stations, urban stormwater runoff, and septic systems.

(E) Radioactive contaminants, which can occur naturally or be the result of oil and gas production and mining activities.

(iii) To protect public health, the Environmental Protection Agency prescribes regulations which limit the amount of certain contaminants in tap water provided by public water systems. The Food and Drug Administration regulations establish limits for contaminants in bottled water which must provide the same protection for public health.

(iv) Drinking water, including bottled water, may reasonably be expected to contain at least small amounts of some contaminants. The presence of contaminants does not necessarily mean that water poses a health risk. More information about contaminants and potential health effects can be obtained by contacting the Environmental Protection Agency by calling the Safe Drinking Water Hotline (800-426-4791) or visiting the website epa.gov/safewater.

(2) The report must include the telephone number of the owner, operator, or designee of the community water system as a source of additional information concerning the report. If a system uses a website or social media to share additional information, EPA recommends including information about how to access such media platforms in the report.

(3) In communities with a large proportion of consumers with limited English proficiency, as determined by the Primacy Agency, the report must contain information in the appropriate language(s) regarding the importance of the report and either contain information where such consumers may obtain a translated copy of the report, or assistance in the appropriate language(s), or the report must be in the appropriate language(s).

(4) The report must include information (e.g., time and place of regularly scheduled board meetings) about opportunities for public participation in decisions that may affect the quality of the water.

(5) The systems may include such additional information as they deem necessary for public education consistent with, and not detracting from, the purpose of the report.

(6) Systems required to comply with subpart S of this part.

(i) Any ground water system that receives notice from the State of a significant deficiency or notice from a laboratory of a fecal indicator-positive ground water source sample that is not invalidated by the State under § 141.402(d) must inform its customers of any significant deficiency that is uncorrected at the time of the next reporting period or of any fecal indicator-positive ground water source sample in the next report or 6-month update according to § 141.155. The system must continue to inform the public annually until the State determines that particular significant deficiency is corrected or the fecal contamination in the ground water source is addressed under § 141.403(a). Each report must include the following elements:

(A) The nature of the particular significant deficiency or the source of the fecal contamination (if the source is known) and the date the significant deficiency was identified by the State or the dates of the fecal indicator-positive ground water source samples;

(B) If the fecal contamination in the ground water source has been addressed under § 141.403(a) and the date of such action;

(C) For each significant deficiency or fecal contamination in the ground water source that has not been addressed under § 141.403(a), the State-approved plan and schedule for correction, including interim measures, progress to date, and any interim measures completed; and

(D) If the system receives notice of a fecal indicator-positive ground water source sample that is not invalidated by the State under § 141.402(d), the potential health effects using the health effects language of appendix A to this subpart.

(ii) If directed by the State, a system with significant deficiencies that have been corrected before the next report is issued must inform its customers of the significant deficiency, how the deficiency was corrected, and the date of correction under paragraph (h)(6)(i) of this section.

(7) Systems required to comply with subpart Y of this part.

(i) Any system required to comply with the Level 1 assessment requirement or a Level 2 assessment requirement that is not due to an E. coli MCL violation must include in the report the text found in paragraphs (h)(7)(i)(A) through (C) of this section as appropriate, filling in the blanks accordingly and the text found in paragraphs (h)(7)(i)(D)(1) and (2) of this section if appropriate. Systems may use an alternative statement with equivalent information for paragraphs (h)(7)(i)(B) and (C) of this section if approved by the primacy agency.

(A) Coliforms are bacteria that occur naturally in the environment and are used as an indicator that other, potentially harmful, waterborne organisms may be present or that a potential pathway exists through which contamination may enter the drinking water distribution system. We found coliforms indicating the need to look for potential problems in water treatment or distribution. When this occurs, we are required to conduct assessment(s) to identify problems and to correct any problems that were found during these assessments.

(B) Because we found coliforms during sampling, we were required to conduct [INSERT NUMBER OF LEVEL 1 ASSESSMENTS] assessment(s) of the system, also known as a Level 1 assessment, to identify possible sources of contamination. [INSERT NUMBER OF LEVEL 1 ASSESSMENTS] Level 1 assessment(s) were completed. In addition, we were required to take [INSERT NUMBER OF CORRECTIVE ACTIONS] corrective actions and we completed [INSERT NUMBER OF CORRECTIVE ACTIONS] of these actions.

(C) Because we found coliforms during sampling, we were required to conduct [INSERT NUMBER OF LEVEL 2 ASSESSMENTS] detailed assessments, also known as a Level 2 assessment, to identify possible sources of contamination. [INSERT NUMBER OF LEVEL 2 ASSESSMENTS] Level 2 assessments were completed. In addition, we were required to take [INSERT NUMBER OF CORRECTIVE ACTIONS] corrective actions and we completed [INSERT NUMBER OF CORRECTIVE ACTIONS] of these actions.

(D) Any system that has failed to complete all the required assessments or correct all identified sanitary defects, is in violation of the treatment technique requirement and must also include one or both of the following statements, as appropriate:

(1) During the past year we failed to conduct all the required assessment(s).

(2) During the past year we failed to correct all identified defects that were found during the assessment.

(ii) Any system required to conduct a Level 2 assessment due to an E. coli MCL violation must include in the report the text found in paragraphs (h)(7)(ii)(A) and (B) of this section, and health effects language in appendix A to this subpart, filling in the blanks accordingly and the text found in paragraphs (h)(7)(ii)(C)(1) and (2) of this section, if appropriate. Systems may use an alternative statement with equivalent information for paragraphs (h)(7)(ii)(A) through (C) of this section, if approved by the primacy agency.

(A) We found E. coli bacteria, indicating the need to look for potential problems in water treatment or distribution. When this occurs, we are required to conduct assessment(s), also known as a Level 2 assessment, to identify problems and to correct any problems that were found during these assessments.

(B) We were required to complete a detailed assessment of our water system, also known as a Level 2 assessment, because we found E. coli in our water system. In addition, we were required to take [INSERT NUMBER OF CORRECTIVE ACTIONS] corrective actions and we completed [INSERT NUMBER OF CORRECTIVE ACTIONS] of these actions.

(C) Any system that has failed to complete the required assessment or correct all identified sanitary defects, is in violation of the treatment technique requirement and must also include one or both of the following statements, as appropriate:

(1) We failed to conduct the required assessment.

(2) We failed to correct all defects that were identified during the assessment that we conducted.

(iii) If a system detects E. coli and has violated the E. coli MCL, in addition to completing the table as required in paragraph (d)(4) of this section, the system must include one or more of the following statements to describe any noncompliance, as applicable:

(A) We had an E. coli-positive repeat sample following a total coliform-positive routine sample.

(B) We had a total coliform-positive repeat sample following an E. coli-positive routine sample.

(C) We failed to take all required repeat samples following an E. coli-positive routine sample.

(D) We failed to test for E. coli when any repeat sample tested positive for total coliform.

(iv) If a system detects E. coli and has not violated the E. coli MCL, in addition to completing the table as required in paragraph (d)(4) of this section, the system may include a statement that explains that although they have detected E. coli, they are not in violation of the E. coli MCL.

(8) Systems required to comply with subpart I of this part.

(i) The report must notify consumers that complete lead tap sampling data are available for review and must include information on how to access the data.

(ii) The report must include a statement that a service line inventory (including inventories consisting only of a statement that there are no lead, galvanized requiring replacement, or lead status unknown service lines) has been prepared and include instructions to access the publicly available service line inventory. If the service line inventory is available online, the report must include the direct link to the inventory.

(iii) The report must contain a plainly worded explanation of the corrosion control efforts the system is taking in accordance with subpart I of this part. Corrosion control efforts consist of treatment (e.g., pH adjustment, alkalinity adjustment, or corrosion inhibitor addition) and other efforts contributing to the control of the corrosivity of water, e.g., monitoring to assess the corrosivity of water. The system may use one of the following templates or use their own explanation that includes equivalent information.

(A) For systems with state or EPA-designated Optimal Corrosion Control Treatment:

(1) Corrosion of pipes, plumbing fittings and fixtures may cause lead and copper to enter drinking water. To assess corrosion of lead and copper, [name of system] conducts tap sampling for lead and copper at selected sites [insert frequency at which system conducts tap sampling]. [Name of system] treats water using [identify treatment method] to control corrosion, which was designated as the optimal corrosion control treatment by [the state or EPA, as applicable]. To ensure the treatment is operating effectively, [name of system] monitors water quality parameters set by the [state or EPA, as applicable] [insert frequency at which system conducts water quality parameter monitoring].

(2) If applicable add: [Name of system] is currently conducting a study of corrosion control to determine if any changes to treatment methods are needed to minimize the corrosivity of the water.

(B) For systems without state or EPA designated Optimal Corrosion Control Treatment:

(1) Corrosion of pipes, plumbing fittings and fixtures may cause metals, including lead and copper, to enter drinking water. To assess corrosion of lead and copper, [name of system] conducts tap sampling for lead and copper at selected sites [insert frequency at which system conducts tap sampling].

(2) If applicable, add: [Name of system] treats water using [identify treatment method] to control corrosion.

(3) If applicable add: [Name of system] is currently conducting a study of corrosion control to determine if any changes to treatment methods are needed to minimize the corrosivity of the water.

5. Amend § 141.154 by:

a. Revising the last sentence of paragraph (a);

b. Revising paragraphs (b), (c)(1) and (2), and (d)(2); and

c. Removing paragraphs (e) and (f).

The revisions read as follows:

§ 141.154 Required additional health information.

(a) * * * EPA/CDC guidelines on appropriate means to lessen the risk of infection by Cryptosporidium and other microbial contaminants are available from the Safe Drinking Water Hotline (800-426-4791) or on EPA's website epa.gov/safewater.

(b) A system that detects arsenic above 0.005 mg/L and up to and including 0.010 mg/L:

(1) Must include in its report a short informational statement about arsenic, using language such as: Arsenic is known to cause cancer in humans. Arsenic also may cause other health effects such as skin damage and circulatory problems. [NAME OF UTILITY] meets the EPA arsenic drinking water standard, also known as a Maximum Contaminant Level (MCL). However, you should know that EPA's MCL for arsenic balances the scientific community's understanding of arsenic-related health effects and the cost of removing arsenic from drinking water. The highest concentration of arsenic found in [YEAR] was [INSERT MAX ARSENIC LEVEL per § 141.153(d)(4)(iv)] ppb.

(2) May use an alternative educational statement in the CCR if approved by the Primacy Agency.

(c) * * *

(1) Must include a short informational statement about the impacts of nitrate on children using language such as: Even though [NAME OF UTILITY] meets the EPA nitrate drinking water standard, also known as a Maximum Contaminant Level (MCL), if you are caring for an infant and using tap water to prepare formula, you may want to use alternate sources of water or ask for advice from your health care provider. Nitrate levels above 10 ppm pose a particularly high health concern for infants under 6 months of age and can interfere with the capacity of the infant's blood to carry oxygen, resulting in a serious illness. Symptoms of serious illness include shortness of breath and blueness of the skin, known as “blue baby syndrome.” Nitrate levels in drinking water can increase for short periods of time due to high levels of rainfall or agricultural activity, therefore we test for nitrate [INSERT APPLICABLE SAMPLING FREQUENCY]. The highest level for nitrate found during [YEAR] was [INSERT MAX NITRATE LEVEL per § 141.153(d)(4)(iv)] ppm.

(2) May use an alternative educational statement in the CCR if approved by the Primacy Agency.

(d) * * *

(2) May use an alternative educational statement in the CCR if approved by the Primacy Agency.

6. Amend § 141.155 by:

a. Revising the section heading:

b. Revising paragraphs (a) through (c), (e), and (f);

c. Revising the first sentence of paragraph (g) introductory text, and paragraphs (g)(1)(i) and (g)(2); and

d. Adding paragraphs (i) and (j).

The revisions and additions read as follows:

§ 141.155 Report delivery, reporting, and recordkeeping.

(a) Except as provided in paragraph (g) of this section, each community water system must directly deliver a copy of the report to each customer.

(1) Systems must use at a minimum, one of the following forms of delivery:

(i) Mail or hand deliver a paper copy of the report;

(ii) Mail a notification that the report is available on a website via a direct link;

(iii) Email a direct link or electronic version of the report; or

(iv) Another direct delivery method approved in writing by the primacy agency.

(2) Systems using electronic delivery methods in paragraph (a)(1)(ii), (iii), or (iv) of this section must provide a paper copy of the report to any customer upon request. The notification method must prominently display directions for requesting such copy.

(3) For systems that choose to electronically deliver the reports by posting the report to a website and providing a notification either by mail or email:

(i) The report must be publicly available on the website at time notification is made;

(ii) Notifications must prominently display the link and include an explanation of the nature of the link; and

(iii) Systems may use a web page to convey the information required in §§ 141.153, 141.154, and 141.156.

(4) Systems that use a publicly available website to provide reports must maintain public access to the report for no less than 3 years.

(b) The system must make a good faith effort to reach consumers who do not get water bills, using means recommended by the primacy agency. EPA expects that an adequate good faith effort will be tailored to the consumers who are served by the system but are not bill-paying customers, such as renters or workers. A good faith effort to reach consumers includes a mix of methods to reach the broadest possible range of persons served by the water system such as, but not limited to: Posting the reports on the internet; mailing reports or postcards with links to the reports to all service addresses and/or postal customers; using an opt in notification system to send emails and/or texts with links to the reports to interested consumers; advertising the availability of the report in the news media and on social media; publication in a local newspaper or newsletter; posting a copy of the report or notice of availability with links (or equivalent, such as Quick Response (QR) codes) in public places such as cafeterias or lunch rooms of public buildings; delivery of multiple copies for distribution by single-biller customers such as apartment buildings or large private employers; delivery to community organizations; holding a public meeting to educate consumers on the reports.

(i) Where a system is aware that it serves a substantial number of non-bill paying consumers, the system is encouraged to directly deliver the reports or notices of availability of the reports to service addresses.

(ii) Where a system is aware of a substantial number of bill-paying consumers without access to electronic forms of the report, the system should use at least one non-electronic form of delivery.

(c) No later than 10 days after the date the system is required to distribute the report to its customers, each community water system must provide a copy of the report to the primacy agency and a certification that the report(s) has/have been distributed to customers, and that the information is correct and consistent with the compliance monitoring data previously submitted to the primacy agency.

* * * * *

(e) Each community water system must make its reports available to the public upon request. Systems should make a reasonable effort to provide the reports in an accessible format to anyone who requests an accommodation.

(f) Each community water system serving 50,000 or more persons must post its current year's report to a publicly-accessible site on the internet.

(g) The Governor of a State or their designee, or the Tribal Leader where the Tribe has met the eligibility requirements contained in § 142.72 for the purposes of waiving the mailing requirement, can waive the requirement of paragraph (a) of this section for community water systems serving fewer than 10,000 persons. * * *

(1) * * *

(i) Publish the reports in one or more local newspapers or on one or more local online news sites serving the area in which the system is located;

* * * * *

(2) Systems serving 500 or fewer persons may forego the requirements of paragraphs (g)(1)(i) and (ii) of this section if they provide notice that the report is available upon request at least once per year to their customers by mail, door-to-door delivery or by posting in one or more locations where persons served by the system can reasonably be expected to see it.

* * * * *

(i) Systems serving 100,000 or more persons, must develop a plan for providing assistance to consumers with limited English proficiency. The system must evaluate the languages spoken by persons with limited English proficiency served by the water system, and the system's anticipated approach to address translation needs. The first plan must be provided to the state with the first report in 2027. Plans must be evaluated annually and updated as necessary and reported with the certification required in paragraph (c) of this section.

(j) Delivery timing and biannual delivery:

(1) Each community water system must distribute reports by July 1 each year. Each report distributed by July 1 must use data collected during, or prior to, the previous calendar year using methods described in paragraph (a) of this section.

(2) Each community water system serving 10,000 or more persons must distribute the report biannually, or twice per calendar year, by December 31 using methods described in paragraph (a) of this section.

(3) Systems required to comply with paragraph (j)(2) of this section, with a violation or action level exceedance that occurred between January 1 and June 30 of the current year, or have received monitoring results from required monitoring under the Unregulated Contaminant Monitoring Rule in § 141.40, must include a 6-month update with the second report with the following:

(i) A short description of the nature of the 6-month update and the biannual delivery.

(ii) If a system receives an MCL, MRDL, or treatment technique violation, the 6-month update must include the applicable contaminant section information in § 141.153(d)(4), and a readily understandable explanation of the violation including: the length of the violation, the potential adverse health effects, actions taken by the system to address the violation, and timeframe the system expects to complete those actions. To describe the potential health effects, the system must use the relevant language of appendix A to this subpart.

(iii) If a system receives any other violation, the 6-month update must include the information in § 141.153(f).

(iv) If a system exceeded the lead action level following monitoring conducted between January 1 and June 30 of the current year, the system must include information identified in § 141.153(d)(4)(vi) and (d)(8).

(v) For systems monitoring under § 141.40 that become aware of results for samples collected during the reporting year but were not included in the reports distributed by July 1, the system must include information as required by § 141.153(d)(7).

7. Add § 141.156 to read as follows:

§ 141.156 Summary of report contents.

(a) Each report must include a summary displayed prominently at the beginning of the report, including a brief description of the nature of the report.

(b) Systems must include, at a minimum, the following information in the summary:

(1) Summary of violations and compliance information included in the report required by § 141.153(d)(6) and (8), (f), and (h)(6) and (7).

(2) Contact information for owner, operator, or designee of the community water system as a source of additional information concerning the report, per § 141.153(h)(2).

(c) If applicable, systems must include the following in the summary:

(1) For systems using delivery methods in § 141.155(a)(1)(ii), (iii), or (iv), the summary must include directions for consumers to request a paper copy of the report, as described in § 141.155(a)(2).

(2) For systems subject to § 141.153(h)(3) because they serve a large proportion of consumers with limited English proficiency, the summary must include information where consumers may obtain a translated copy of the report, or get assistance in the appropriate language(s).

(3) For systems using the report to also meet the public notification requirements of subpart Q of this part, the summary must specify that it is also serving to provide public notification of one or more violations or situations, provide a brief statement about the nature of the notice(s), and a brief description of how to locate the notice(s) in the report.

(d) The summary should be written in plain language and may use infographics.

(e) For those systems required to include a 6-month update with the second report under § 141.155(j)(2), the summary should include a brief description of the nature of the report and update, noting the availability of new information for the current year (between January and June).

(f) The report summary must include the following standard language to encourage the distribution of the report to all persons served:

Please share this information with anyone who drinks this water (or their guardians), especially those who may not have received this report directly (for example, people in apartments, nursing homes, schools, and businesses). You can do this by posting this report in a public place or distributing copies by hand, mail, email, or another method.

8. Amend appendix A to subpart O by:

a. Removing the entries for “Total Coliform Bacteria †” and “Total Coliform Bacteria ‡”;

b. Adding the entry for “Total Coliform Bacteria” under “Microbiological contaminants”;

c. Removing the entry for “Fecal coliform and E. coli †”;

d. Revising the entries for “E. coli ‡”and “Arsenic (ppb)”; and

e. Removing footnotes †, ‡, and 1.

The addition and revisions read as follows:

Appendix A to Subpart O of Part 141—Regulated Contaminants

Contaminant (units) | Traditional MCL in mg/L | To convert for CCR, multiply by | MCL in CCR units | MCLG | Major sources in drinking water | Health effects language
Microbiological contaminants:
Total Coliform Bacteria | TT |  | TT |  | N/A | Use language found in § 141.153(h)(7)(i)(A).
E. coli | Routine and repeat samples are total coliform-positive and either is E. coli-positive or system fails to take repeat samples following E. coli-positive routine sample or system fails to analyze total coliform-positive repeat sample for E. coli |  | Routine and repeat samples are total coliform-positive and either is E. coli-positive or system fails to take repeat samples following E. coli-positive routine sample or system fails to analyze total coliform-positive repeat sample for E. coli | 0 | Human and animal fecal waste | E. coli are bacteria whose presence indicates that the water may be contaminated with human or animal wastes. Human pathogens in these wastes can cause short-term effects, such as diarrhea, cramps, nausea, headaches, or other symptoms. They may pose a greater health risk for infants, young children, the elderly, and people with severely-compromised immune systems.
* * * * * * *
Arsenic (ppb) | 0.010 | 1000 | 10 | 0 | Erosion of natural deposits; Runoff from orchards; Runoff from glass and electronics production wastes | Some people who drink water containing arsenic in excess of the MCL over many years could experience skin damage or problems with their circulatory system, and may have an increased risk of getting cancer.
* * * * * * *

* * * * *

PART 142—NATIONAL PRIMARY DRINKING WATER REGULATIONS IMPLEMENTATION

9. The authority citation for part 142 continues to read as follows:

Authority: 42 U.S.C. 300f, 300g-1, 300g-2, 300g-3, 300g-4, 300g-5, 300g-6, 300j-4, 300j-9, and 300j-11.

10. Amend § 142.14 by adding paragraph (h) to read as follows:

§ 142.14 Records kept by States.

* * * * *

(h) Each State that has primary enforcement responsibility must maintain the following records under subpart O of this part:

(1) A copy of the consumer confidence reports for a period of one year and the certifications obtained pursuant to 40 CFR 141.155(c) for a period of 5 years.

(2) A copy of the plans submitted pursuant to 40 CFR 141.155(i) for a period of 5 years.

11. Amend § 142.15 by:

a. Revising paragraph (b) introductory text;

b. Removing the period at the end of the paragraph (b)(2) and adding “; and” in its place; and

c. Adding paragraph (b)(3).

The revision and addition read as follows:

§ 142.15 Reports by States.

* * * * *

(b) Each State which has primary enforcement responsibility must submit annual reports to the Administrator on a schedule and in a format prescribed by the Administrator, consisting of the following information:

* * * * *

(3) No earlier than May 24, 2027, compliance monitoring data and related monitoring data necessary for determining compliance for all National Primary Drinking Water Regulations (NPDWRs) in 40 CFR part 141.

* * * * *

12. Amend § 142.16 by revising paragraphs (f)(1) and (3), and adding paragraph (f)(5) to read as follows:

§ 142.16 Special primacy requirements.

* * * * *

(f) * * *

(1) Each State that has primary enforcement responsibility must adopt the revised requirements of 40 CFR part 141, subpart O no later than May 25, 2026. States must submit revised programs to EPA for approval using the procedures in § 142.12(b) through (d).

* * * * *

(3) Each State must, as a condition of primacy, provide water systems with technical assistance in meeting the requirements in 40 CFR 141.153(h)(3) to provide translation assistance to consumers with limited English proficiency. Examples of technical assistance include providing water systems with contact information for inclusion in the system's report where consumers can contact the state for translation assistance upon request, or providing resources for water systems to translate their reports, including EPA-provided translations of required content for CCRs (e.g., health effects language, definitions) and translated templates of reports through a website.

* * * * *

(5) Each application for approval of a revised program must include:

(i) A description of how the State intends to provide water systems with technical assistance in meeting the requirements in 40 CFR 141.153(h)(3) to provide translation assistance in communities with a large proportion of consumers with limited English proficiency; and

(ii) A description of the state's procedures for waiving the mailing requirement for small systems consistent with 40 CFR 141.155(g).

* * * * *

[FR Doc. 2024-10919 Filed 5-23-24; 8:45 am]

BILLING CODE 6560-50-P